DEPARTMENT OF COMMERCE

National Oceanic and Atmospheric Administration

50 CFR Parts 300 and 660

[Docket No. 230822-0203]

RIN 0648-BM28

Magnuson-Stevens Act Provisions; Fisheries off West Coast States; Pacific Coast Groundfish Fishery; Pacific Coast Groundfish Fishery Management Plan; Amendment 32

AGENCY: National Marine Fisheries Service (NMFS), National Oceanic and Atmospheric Administration (NOAA), Commerce.

ACTION: Proposed rule; notice of availability of a draft environmental assessment; request for comments.

SUMMARY: This action proposes regulations that would implement Amendment 32 to the Pacific Coast Groundfish Fishery Management Plan. The proposed regulations include a suite of changes to non-trawl area management measures seaward of California and Oregon. Specifically, NMFS proposes to: allow increased fishing access with specific gear types to the Non-Trawl Rockfish Conservation Area for the commercial groundfish limited entry fixed gear sector and vessels that gear switch under the Trawl Individual Fishing Quota program; modify gear restrictions in the Non-Trawl Rockfish Conservation Area for all non-trawl commercial groundfish sectors; move the seaward boundary of the Non-Trawl Rockfish Conservation Area to 75 fathoms (137 meters) for all non-trawl commercial groundfish sectors and the directed commercial Pacific halibut fishery; create new Groundfish Conservation Areas, including new Yelloweye Rockfish Conservation Areas seaward of Oregon and Groundfish Exclusion Areas seaward of Southern California; create new Essential Fish Habitat Conservation Areas off Oregon; remove the Cowcod Conservation Area seaward of Southern California for all groundfish commercial and recreational non-trawl sectors, and enable the use of Block Area Closures to control the catch of groundfish for all commercial non-trawl sectors. The purpose of Amendment 32 is to provide fishing access to healthy groundfish stocks for non-trawl groundfish fisheries and the directed commercial halibut fishery while still meeting the conservation objectives of the Pacific Coast Groundfish Fishery Management Plan. NMFS also announces the availability of a draft Environmental Assessment that analyzes the potential effects of the associated proposed rule. In addition, this action proposes minor administrative regulatory revisions which would correct the name of the Cordell Bank Groundfish Conservation Area, amend the description of the Cordell Bank Groundfish Conservation Area, add new regulatory definitions for different types of fishing bait, and add new exemptions to Vessel Monitoring System reporting requirements.

DATES: Comments on this proposed rule and draft Environmental Assessment must be received on or before September 29, 2023.

ADDRESSES: You may submit comments on this document, identified by NOAA-NMFS-2023-0051, by the following method:

• Electronic Submission: Submit all electronic public comments via the Federal e-Rulemaking Portal. Go to https://www.regulations.gov and enter NOAA-NMFS-2023-0051 in the Search box. Click on the “Comment” icon, complete the required fields, and enter or attach your comments.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic Access

Information relevant to Amendment 32, which includes a draft Environmental Assessment, a Regulatory Impact Review, a Regulatory Flexibility Act analysis and a Magnuson Stevens Fishery Conservation and Management Act (Magnuson-Stevens Act) analysis (all referred to hereafter as Analysis), are accessible via the internet at the NMFS West Coast Region website at: https://www.fisheries.noaa.gov/west-coast/laws-and-policies/west-coast-region-national-environmental-policy-act-documents.

FOR FURTHER INFORMATION CONTACT: Lynn Massey, phone: 562-900-2060, or email: Lynn.Massey@noaa.gov

SUPPLEMENTARY INFORMATION: The Pacific Coast Groundfish fishery in the U.S. exclusive economic zone (EEZ) seaward of Washington, Oregon, and California is managed under the Pacific Coast Groundfish Fishery Management Plan (FMP). The Pacific Fishery Management Council (Council) developed the Pacific Coast Groundfish FMP pursuant to the Magnuson-Stevens Act, 16 U.S.C. 1801 et seq. The Secretary of Commerce approved the Pacific Coast Groundfish FMP and implemented the provisions of the plan through federal regulations at 50 CFR part 660, subparts C through G. Species managed under the Pacific Coast Groundfish FMP include more than 90 species of roundfish, flatfish, rockfish, sharks, and skates.

This rule would implement regulations for Amendment 32 to the Pacific Coast Groundfish FMP (also referred to interchangeably as “this action”). Consistent with MSA Section 303(c)(1), the Council deemed the proposed regulations consistent with and necessary to implement Amendment 32 in a July 21, 2023 letter from Council Chairman Merrick Burden to Regional Administrator Jennifer Quan. The Notice of Availability for Amendment 32 that published on August 2, 2023 (88 FR 50830) describes FMP changes in, and requests comments on, Amendment 32

In addition to proposing changes to the regulations at 50 CFR part 300 and part 660 to implement Amendment 32, this proposed rule also proposes minor, clarifying and administrative revisions to the regulations in part660. These administrative changes would correct the name of the Cordell Bank Groundfish Conservation Area (Cordell Bank GCA), amend the description of the Cordell Bank GCA, add new regulatory definitions for different types of fishing bait, and add new exemptions to Vessel Monitoring System (VMS) reporting requirements.

Background

In the early 2000s, several types of groundfish conservation areas (GCAs), defined at § 660.11, were implemented (as part of FMP Amendment 16-3) to protect overfished groundfish species off the U.S. West Coast; this includes the coastwide Non-Trawl Rockfish Conservation Area (Non-Trawl RCA) (68 FR 907, January 7, 2003), and the Cowcod Conservation Areas (CCAs) (66 FR 2338, January 11, 2001)) in the Southern California Bight. With the rebuilt status of almost all of these groundfish species (the exception being yelloweye rockfish, which is projected to rebuild by 2029), the Council has been prioritizing increased fishing access to these areas for groundfish non-trawl fisheries (i.e., the directed open access sector, the California recreational sector, the limited entry fixed gear (LEFG) sector, and vessels that use non-trawl gear under the Trawl Individual Fishing Quota (IFQ) Program). In November 2019, the Council directed the Groundfish Advisory Subpanel (GAP) to develop the scope of action and draft a purpose and need statement for non-trawl area management modifications during the GAP's March and April 2020 meetings. The GAP then submitted an informational report (see Informational Report 4 in the June 2020 briefing book at pcouncil.org) for Council consideration and scheduling of further scoping of the issues. In April 2021, the Council initiated a scoping process to address modifying Non-Trawl RCA catch restrictions and boundaries (see Agenda Item F.3, Attachment 2 in the April 2021 briefing book at pcouncil.org). In November 2021 and April 2022, the Council further refined the range of alternatives, which included expanding the action to include changes to the CCA (both the Eastern CCA and the Western CCA) seaward of California, consideration of new closed areas (i.e., Groundfish Exclusion Areas (GEAs) and Yelloweye Rockfish Conservation Areas (YRCAs)), and changes to Essential Fish Habitat Conservation Areas (EFHCAs) that would be partially exposed to fishing activity under the alternatives. The Council selected a preliminary preferred range of alternatives at their September 2022 meeting and selected a final range of alternatives at their March 2023 meeting. More details on how the range of alternatives evolved through this process is provided in the Analysis (see ADDRESSES). The Council's resulting final preferred alternative constitutes Amendment 32 to the Pacific Coast Groundfish FMP. Amendment 32 and its implementing regulations included in this proposed rule would provide additional fishing opportunity in these closures through a suite of modifications to GCA boundaries, gear specifications, and catch restrictions, while continuing to rebuild yelloweye rockfish and mitigate fishing impacts to sensitive habitats.

Revisions to Non-Trawl Rockfish Conservation Area Management Measures

Boundary Modifications

The Non-Trawl RCA is a coastwide, contiguous area bounded by specific latitude and longitude coordinates that approximate depth contours along the West Coast continental shelf and around select islands off Southern California. Non-Trawl RCA boundaries are not consistent along the coast; they vary by management area (i.e., the shoreward and seaward boundaries are shallower or deeper, depending on latitude). The Non-Trawl RCA prohibits almost all commercial non-tribal directed groundfish fishing with non-trawl gear, and also applies to the non-tribal directed commercial halibut fishery (see 50 CFR 300.63(e)(1)).

The seaward boundary of the Non-Trawl RCA approximates the 100 fathom (fm, 183 meters (m)) depth contour seaward of Oregon and the 100 (183 m) or 125 fm (229 m) depth contour seaward of California, depending on latitude (see Tables 2 North and South of subpart E and Tables 3 North and South to subpart F). The implementing regulations for Amendment 32 as included in this proposed rule would move the seaward boundary of the Non-Trawl RCA in to the depth contour that approximates 75 fm (137 m) seaward off both Oregon and California, which would open up approximately 2,411 square miles (sq mi, 6,244 square kilometers (sq km)) to all non-trawl commercial groundfish sectors and the non-tribal directed commercial Pacific halibut fishery. Adjusting the Non-Trawl RCA boundary for both the commercial non-tribal directed groundfish and halibut fisheries would reduce enforcement complexity and provide additional fishing opportunity. The Non-Trawl RCA boundaries in the Southern California Bight (south of 34°27′ N lat.) would not change, as the 75-100 fm (137-183 m) depth range is already open in this area.

Catch Restriction Modifications

The final rule for the 2023-24 Groundfish Harvest Specification and Management Measures action (87 FR 77007, December 16, 2022) authorized the use of two new hook-and-line gear configurations for use inside the Non-Trawl RCA by the directed open access sector as defined at § 660.11. These two new gear configurations included stationary vertical jig gear (see § 660.330(b)(3)(i)) and groundfish troll gear (see § 660.330(b)(3)(ii)). The implementing regulations for Amendment 32 as included in this proposed rule would allow vessels participating in the LEFG sector and vessels that use non-trawl gear under the Trawl IFQ program (i.e., “IFQ gear switchers”) to fish with these gear types under their respective catch limits rather than under open access trip limits. In other words, LEFG vessels could fish inside the Non-Trawl RCA pursuant to their higher trip limits listed in subpart E Tables 1 North and South, and IFQ gear switchers could fish inside the Non-Trawl RCA under their quota pounds. Vessels would be required to make an appropriate declaration (specified at § 660.13(d)) that corresponds to their respective sector and the chosen gear type (i.e., either stationary vertical jig gear or groundfish troll gear). On a fishing trip where any fishing would occur inside the Non-Trawl RCA, only one type of non-bottom contact gear would be permitted to be carried on board, and no other fishing gear of any type could be carried on board or stowed during that trip. The vessel would be allowed to fish inside and outside the Non-Trawl RCA on the same fishing trip, provided a valid declaration report as required at § 660.13(d) is filed with NMFS' Office of Law Enforcement (OLE). Crossover provisions at § 660.60(h)(7)(ii) would not apply for the two Non-Trawl RCA gear types (i.e., stationary vertical jig gear and groundfish troll gear). Access to these higher trip limits would increase fishing opportunity and provide operational flexibility for these vessels.

Gear Modifications

The two new hook-and-line gear configurations authorized as part of the 2023-24 Groundfish Harvest Specification and Management Measures action (87 FR 77007, December 16, 2022) were implemented along with a suite of gear specifications intended to minimize yelloweye rockfish bycatch and seabird interactions. For the stationary vertical jig gear, currently fishermen must have a minimum of 50 feet (15 m) between the bottom weight and the lowest fishing hook to ensure that fishing activity is occurring off the bottom (see § 660.330(b)(3)(i)(A)). In addition, currently only artificial bait is permitted; natural bait is prohibited (see § 660.330(b)(3)(i)(D)). The proposed regulations for Amendment 32 would modify these gear restrictions to instead allow a minimum of 30 feet (9 m) between the bottom weight and the lowest fishing hook, and allow the use of natural bait. These changes are expected to increase catch of underutilized stocks, while continuing to mitigate catch of rebuilding stocks. No changes in gear modifications are being proposed for the groundfish troll gear configuration. Fishermen must continue to have a minimum of 50 feet (15 m) between the bottom weight and the lowest fishing hook, and are still required to use artificial bait with groundfish troll gear.

Revisions to Cowcod Conservation Area Management Measures

The CCA was implemented in 2001 to reduce the bycatch of overfished cowcod (66 FR 2338, January 11, 2001), which was declared rebuilt in 2019. Within the CCA, which is comprised of the Western and Eastern CCAs, groundfish fishing by all commercial and recreational groundfish fisheries, including those that use both trawl and non-trawl gear, is prohibited. Amendment 32 and its implementing regulations included in this proposed rule would remove the CCA restrictions for all groundfish non-trawl fisheries, which would open up approximately 4,663 sq mi (12,077 sq km) to all non-trawl commercial groundfish sectors. The CCA would remain in place for groundfish trawl fisheries, as the scope of the Council's action only considered non-trawl sectors. The purpose of this change is to provide fishing opportunity in this area given the cowcod fishery has been declared rebuilt. Non-trawl fishing is currently allowed shoreward of the 40 fm (73 m) lines around the islands and banks within the current boundaries of the CCA. With the removal of the CCA restrictions, the 40 fm (73 m) restriction would no longer be in place (i.e., vessels could operate anywhere in the area, subject to pre-existing area closures). Eight new closures would be enacted in the former boundaries of the CCAs for non-trawl groundfish commercial and recreational fisheries (see the next section on Groundfish Exclusion Areas).

The Council recommended defining new fathom lines around islands and banks that reside inside the current CCA. Specifically, the Council recommended that coordinates be defined in the regulations for the 50, 60, 75, 125, and 150 fm (91 m, 110 m, 137 m, 229 m, and 274 m) lines around Santa Barbara Island, San Nicolas Island, Cortes Bank, and Tanner Bank, and the 150 fm (274 m) line around Osborn Bank and the Eastern CCA. The purpose of defining these fathom lines around the islands and banks is to provide flexible management tools to restrict fishing seaward or shoreward of the new lines as needed, which would prevent interactions with certain nearshore species and control catch of groundfish. If Amendment 32 is approved and implemented in a final rule, these boundaries would be defined in the regulations and would be available for use in the future should the Council wish to recommend activating depth-based closures. The Council may also recommend modifying the status of these closures via an inseason action consistent with § 660.60(c) or via a rulemaking action for groundfish fisheries management.

New Conservation Areas

Groundfish Exclusion Areas

Amendment 32 and its implementing regulations included in this proposed rule would create a new type of GCA called a GEA, which is intended to mitigate the impacts to sensitive environments from certain groundfish fishing activity. Specifically, eight GEAs would be established in this action: (1) Hidden Reef; (2) West of Santa Barbara Island; (3) Potato Bank; (4) 107/118 Bank; (5) Cherry Bank; (6) Seamount 109; (7) Northeast Bank; and (8) The 43-Fathom Spot. All of these GEAs would be located in the Southern California Bight within the area in which non-trawl CCA restrictions would be removed. These GEAs would keep approximately 428 square miles (1,100 sq km) closed to non-trawl fishing effort. The purpose of this change is to create a type of GCA that can be used to protect sensitive areas and that can be separate and distinct from groundfish essential fish habitat (EFH). These GEAs would prohibit all commercial and recreational groundfish fishing. Commercial fishing vessels would be allowed to continually transit through GEAs provided that all gear is stowed. Recreational vessels would be allowed to continually transit through GEAs provided that no gear is deployed. Vessels fishing for non-groundfish species, including highly migratory species, would be permitted within GEAs, provided that no groundfish is on board the vessel.

Yelloweye Rockfish Conservation Areas (YRCAs)

A YRCA is a type of GCA used to mitigate bycatch of yelloweye rockfish in groundfish fisheries. Given that yelloweye rockfish is still rebuilding, the Council considered establishing new YRCAs in the event that yelloweye rockfish bycatch increases with increased fishing access to the Non-Trawl RCA. Amendment 32 would establish four new YRCAs seaward of Oregon: (1) Tillamook YRCA; (2) Newport YRCA; (3) Florence YRCA; and (4) Heceta Bank YRCA. Within the YRCAs, restrictions would apply to both commercial groundfish non-trawl fisheries and the non-tribal directed commercial halibut fishery. In recommending Amendment 32, the Council proposed that only one of the YCRAs would be “active” at the time of implementation. The other three closures would be “inactive” until the Council recommends and NMFS implements those closures. Thus, in this proposed rule only the Heceta Bank YRCA is proposed to be active. The Tillamook, Newport, and Florence YRCAs would be defined and established in federal regulations at § 660.11, but would remain inactive until the Council recommends modifying their inactive status and NMFS implements such changes via an inseason action consistent with § 660.60(c) or a future rulemaking action on groundfish fisheries. NMFS would need to modify the status of these YRCAs for the non-tribal directed commercial halibut fishery via the rulemaking process, as the current regulations on the non-tribal directed halibut fishery do not include a regulatory mechanism for modifying closed areas inseason.

Essential Fish Habitat Conservation Areas

The Magnuson-Stevens Act requires that FMPs describe and identify EFH and minimize to the extent practicable adverse effects on EFH caused by fishing. The Pacific Coast Groundfish FMP authorizes the use of EFHCAs to protect groundfish EFH from specific types of fishing activity. Federal regulations at §§ 660.75 through 660.79 provide the coordinates for all current EFHCAs off the U.S. West Coast. At present, there are two types of EFHCAs: bottom trawl and bottom contact. Both bottom trawl and bottom contact EFHCAs apply to all fisheries and are not limited in application to groundfish fisheries. Amendment 32 would create a new type of EFHCA that prohibits using non-trawl bottom contact gear (e.g., pot/longline) for all non-tribal groundfish fisheries and the non-tribal directed commercial Pacific halibut fishery. The purpose of this new type of EFHCA is to protect groundfish EFH that would be newly exposed to non-trawl bottom contact gear from moving the seaward boundary of the Non-Trawl RCA to 75 fm (137 m) seaward of Oregon. Specifically, this proposed rule would establish five new EFHCAs: (1) Nehalem Bank East; (2) Bandon High Spot East; (3) Arago Reef West; (4) Garibaldi Reef North; and (5) Garibaldi Reef South. All of these new EFHCAs overlap partially or entirely with existing bottom trawl EFHCAs (i.e., bottom trawl gear is already prohibited in these areas), which is why the specified gear prohibition only includes non-trawl bottom contact gear. Taking, retaining, or possessing (except for the purpose of continuous transit) groundfish or halibut in these new EFCHAs would be prohibited.

Block Area Closures

The Pacific Coast Groundfish FMP and its implementing regulations currently authorize the use of Block Area Closures (BACs) as a routine management measure to control bycatch of groundfish in trawl fisheries. BACs are size variable spatial closures in the EEZ bounded by latitude lines, defined at § 660.11, with depth contour approximations defined at §§ 660.71 through 660.74 ((10 fm (18 m) through 250 fm (457 m)), and § 660.76 (700 fm (1280 m)). Amendment 28 to the FMP (84 FR 63966, November 19, 2019) first established BACs as a management tool. The salmon bycatch minimization measures final rule (86 FR 10857, February 23, 2021) expanded BACs as a tool to minimize salmon bycatch. Amendment 32 and its implementing regulations included in this proposed rule would expand the use of BACs for groundfish non-trawl fisheries. The purpose of this change is to create a mechanism to control bycatch of groundfish and bycatch of protected or prohibited species from non-trawl fisheries given the new flexibilities (e.g., newly opened fishing grounds) that would result from the implementation of this action. Thus, under this proposed rule, BACs could be implemented in the EEZ coastwide. BACs also could be implemented within tribal Usual and Accustomed (U&A) fishing areas but would only apply to non-tribal vessels.

This proposed rule would not implement specific individual BACs. This proposed rule would allow NMFS to close or reopen BACs preseason or inseason. The approach would be consistent with existing routine management measures in framework amendments to the FMP that have already been implemented and incorporated into the regulations. Most trip, bag, and size limits, and some GCA closures in the groundfish fishery, including Bycatch Reduction Areas and BACs, have been designated routine management measures in the Pacific Coast Groundfish FMP and in § 660.60(c). The Council can recommend to NMFS implementation or modification of these routine management measures through an expedited process involving a single Council meeting. Inseason changes are announced in the Federal Register pursuant to the requirements of the Administrative Procedure Act. If good cause exists under the Administrative Procedure Act to waive notice and comment, a single Federal Register notice will announce routine inseason BACs implemented by NMFS.

When deciding whether to recommend BACs for NMFS to implement, consistent with the Pacific Coast Groundfish FMP, the Council considers environmental impacts, economic impacts, and public comments that are received via the Council process. Depending on the circumstances, NMFS may close areas for a defined period of time, for example, a few months or the remainder of the fishing year, or NMFS may maintain a closure for an indefinite period of time, for example, until reopened by a subsequent action. NMFS may close one or more BACs and the size of the BACs can vary. A Federal Register notice will announce the geographic boundaries of one or more BACs, the effective dates, applicable gear/fishery restrictions, as well as the purpose and rationale. NMFS would also disseminate this information on BACs through public notices and by posting on the West Coast Region website (see ADDRESSES for electronic access information).

Expected Effects of This Action

The Council prepared a detailed Analysis (see Electronic Access section of ADDRESSES) that analyzed the effects of Amendment 32 on various resources. A brief summary of expected effects from the Analysis is provided below.

Target and Non-Target Species

The Council and NMFS expect that impacts to target and non-target species would be within those described in the 2023-2024 Biennial Harvest Specifications and Management Measures Environmental Assessment (EA), as this action would not change harvest specifications from those implemented in the 2023-2024 harvest specifications action (87 FR 77007, December 16, 2022). That analysis assumes that full annual catch limits (ACLs) are harvested for each stock within the fishery and NMFS issued a Finding of No Significant Impact for that action (see page 64 of 2023-2024 EA, available at: https://www.fisheries.noaa.gov/west-coast/laws-and-policies/west-coast-region-national-environmental-policy-act-documents).

Prohibited Species

Prohibited species include those species and species groups whose retention is prohibited in the Pacific Coast groundfish fishery. Prohibited species include any species of salmonid, Pacific halibut, Dungeness crab caught seaward of Washington or Oregon, and groundfish species or species groups under the Pacific Coast Groundfish FMP for which quotas have been achieved and/or the fishery closed (see § 660.11). The Council and NMFS do not expect significant impacts to prohibited species including salmon, Dungeness crab, eulachon, and green sturgeon given the limited encounters and mortality associated with non-trawl fisheries. Non-trawl gear types have historically had little or no mortality of these species, and even with the expansion of opportunities for non-trawl fisheries through this action, mortality is expected to still be negligible.

Protected Species

Protected species include species other than prohibited species, that are protected under Federal law, including species listed under the Endangered Species Act (ESA), marine mammals protected under the Marine Mammal Protection Act (MMPA), and bird species protected under the Migratory Bird Treaty Act (MBTA). Protected species that may be affected by opening portions of the Non-Trawl RCA include humpback whales (listed under the ESA and MMPA), leatherback sea turtles (ESA), and short-tailed albatross (ESA and MBTA).

The portion of the Non-Trawl RCA being opened seaward of Oregon and California between 75 and 100/125 fm (137 and 183/229 m) overlaps with ESA-designated critical habitat for the Mexican distinct population segment (DPS) of humpback whales (see Figure 27 of the Analysis). NMFS evaluated the effects of the groundfish fishery on ESA-listed humpback whales and their critical habitat in the 2020 Biological Opinion for the Pacific Coast Groundfish Fishery (WCRO-2018-01378). Under the MMPA, the sablefish pot fishery, which is a sector within the LEFG fishery, is listed as a Category II fishery, which means there is occasional incidental mortality and serious injury of marine mammals. Although there would likely be an effort shift from the sablefish pot fishery as well as other non-trawl fisheries into the newly opened area, the Council and NMFS do not anticipate an overall increase in the number of participants in any non-trawl fishery sector. As explained in the Analysis, it is the amount of gear in the water rather than the amount of area or habitat designation that affects potential entanglement risk for whales. This action does not change the overall amount of sablefish that can be caught by the fishery, which was analyzed as part of the 2023-2024 Biennial Harvest Specifications and Management Measures EA (available at https://www.fisheries.noaa.gov/west-coast/laws-and-policies/groundfish-actions-nepa-documents). The density of pot gear and other non-trawl gear in the EEZ both shoreward and seaward of the Non-Trawl RCA will likely lessen, as some vessels will likely shift some of their effort to the newly opened depth bin. This will increase the spatial distribution of pot gear, but will not change the overall amount of effort nor will it concentrate effort in a particular area. In addition, there is no evidence to suggest that vessels fishing in 75-100 or 75-125 fm (137-183 or 137-229 m) would create more potential for whale interactions compared to fishing in 100-125 fm (183-229 m) or greater, depths at which fishing is already opened. Therefore, NMFS does not anticipate impacts to the Mexican DPS or the Central American DPS of humpback whales from Amendment 32 beyond those impacts already considered in the 2020 Biological Opinion.

The portion of the Non-Trawl RCA being opened seaward of Oregon and California between 75 and 100/125 fm (137 and 183/229 m) overlaps with ESA-designated critical habitat for leatherback sea turtles (see Figure 27 of the Analysis). The effects of the groundfish fishery on ESA-listed leatherback sea turtles was evaluated in the 2012 Biological Opinion (NWR-2012-876) for the Pacific Coast Groundfish Fishery. There have been no observed takes of leatherback turtles in any groundfish fishery from 2015-2019 (Agenda Item G.4.a, NMFS Report 5, June 2021). The only observed take in the groundfish fishery was in the Open Access pot fishery in 2008. Although there would likely be an effort shift from the LEFG sablefish pot fishery as well as other non-trawl fisheries into the newly opened area, the Council and NMFS do not anticipate an overall increase in the number of participants in any non-trawl fishery sector. As explained in the Analysis, it is the amount of gear in the water rather than the amount of area or habitat designation that affects potential entanglement risk for leatherback sea turtles. This action does not change the overall amount of sablefish that can be caught by the fishery, which was analyzed as part of the 2023-2024 Biennial Harvest Specifications and Management Measures EA. The density of pot gear and other non-trawl gear in the EEZ both shoreward and seaward of the Non-Trawl RCA will likely lessen, as some vessels will likely shift some of their effort to the newly opened depth bin. This will increase the spatial distribution of pot gear, but will not change the overall amount of effort nor will it concentrate effort in a particular area. Therefore, the Council and NMFS do not anticipate significant impacts to this species.

The portion of the Non-Trawl RCA being opened seaward of Oregon and California between 75 and 100/125 fm (137 and 183/229 m) could potentially increase interactions with ESA-listed short-tailed albatross. Longline gear, which is fished in all non-trawl sectors, is the primary gear evaluated in the 2017 Biological Opinion (O1EOFWOO-2017-F-03 16) for the Pacific Coast Groundfish Fishery. All vessels over 26 feet (8 m) in length and fishing with longline gear in the area North of 36° N lat. (i.e., in the primary area of overlap with short-tailed albatross habitat) are subject to existing mitigation requirements for seabirds, including night setting and the mandatory use of streamer lines (see Seabird Avoidance Program requirements at § 660.21). There have been no known takes of short-tailed albatross in the groundfish fishery since these required mitigation measures were implemented, and the same mitigation measures would still apply in the newly opened areas. Therefore, the Council and NMFS do not anticipate impacts to this species beyond those considered in the 2017 Biological Opinion.

Habitat

The portion of the Non-Trawl RCA being opened seaward of Oregon and California between 75 and 100/125 fm (137 and 183/229 m), as well as the area being opened by removing the CCA in Southern California could adversely affect bottom habitat that could be newly exposed to bottom contact groundfish gear, including pot and longline gear. The majority of the area to be opened in the Non-Trawl RCA is soft substrate with some areas that include mixed/hard substrate with habitat-forming invertebrates (such as corals, basketstars, brittlestars, demosponges, gooseneck barnacles, sea anemones, sea lilies, sea urchins, sea whips, tube worms, and vase sponges). These mixed/hard areas largely fall within currently identified EFHCAs for bottom trawl. As described above under the heading, “New Conservation Areas,” the Council recommended additional protection from groundfish non-trawl bottom contact gear (i.e., pot and longline gear) for the portions of bottom trawl EFHCAs that would be newly exposed off Oregon. The newly exposed bottom trawl EFHCAs seaward of California will be evaluated in the Council's next EFH review; this evaluation will include the question of whether to also prohibit non-trawl bottom contact gear, which is scheduled to begin in 2025. The Council also recommended the eight GEAs in the Southern California Bight to protect sensitive environments of concern in the area of the current CCA. Therefore, the Council and NMFS do not anticipate significant impacts to habitat from this action.

Economic Benefits

The Council and NMFS anticipate that this action would increase the overall economic value of the groundfish and directed commercial halibut fisheries by providing access to almost three thousand square miles of fishing grounds that have been closed to non-trawl groundfish and halibut fishing for over two decades. In addition, relaxed gear and catch restrictions would allow for diversified fishing strategies and access to higher trip limits/quotas within the remaining Non-Trawl RCA boundaries. As detailed in the Analysis, fishing ports with lower attainment of sablefish are likely to benefit most from the new opportunities; however, ports with high attainment of sablefish could potentially also benefit from access to larger, higher value sablefish and reduced fuel costs from vessels not having to travel beyond 100 or 125 fm (183 or 229 m) to access larger sablefish.

Administrative Regulatory Changes

In addition to the actions recommended by the Council above, NMFS is also proposing to make three minor regulatory changes in this final rule. These changes, which are necessary to improve clarity of existing regulations, are administrative in nature.

Groundfish Conservation Area Nomenclature Corrections

NMFS proposes to universally correct all instances of “Cordell Banks” to its correct name of “Cordell Bank.” NMFS also proposes to modify the description of the Cordell Bank GCA at § 660.70(q) to clarify that fishing is not permitted “within” its boundaries as opposed to “around” its boundaries, as currently specified in the regulations. The purpose of this change is to clarify the intended meaning of these regulations for fishermen and to support enforcement efforts, but this change would not constitute a material change to the GCA.

Bait Definitions

NMFS proposes to add regulatory definitions for artificial lure, bait (both natural and artificial), and weighted gear under § 660.11. This rule proposes to allow for the use of natural bait on non-bottom contact stationary vertical jig gear in the Non-Trawl RCA, and to continue to prohibit its use on groundfish troll gear in the Non-Trawl RCA. However, natural bait is not defined in the regulations. The purpose of adding these definitions (which are based on common usage) is to clarify the types of bait that are permitted for use within the Non-Trawl RCA. This will aid fishermen and support enforcement efforts.

Vessel Monitoring System Exemptions

Vessels participating in the limited entry groundfish fishery, open access vessels using non-groundfish trawl gear (vessels fishing for ridgeback prawn, California halibut, and sea cucumber trawl), and any vessels that use open access gear targeting groundfish or that have groundfish bycatch (salmon troll, prawn trap, Dungeness crab, halibut longline, California halibut line gear, and sheephead trap), are required to install a NMFS OLE type-approved mobile transceiver unit and to arrange for a NMFS OLE type-approved communications service provider to receive and relay transmissions to NMFS OLE prior to fishing. These units automatically record a vessel's position (i.e., the vessel's geographic location in latitude and longitude coordinates), and transmit those coordinates to a communications service provider.

Under current regulation, exemptions from the VMS requirement for specific reasons are allowed (50 CFR 660.14(d)(4)). VMS users must follow the requirements at § 660.14(d)(4)(vi) to submit exemption reports. Current exemptions include a haul out exemption, an outside areas exemption, a permit exemption, and a long-term departure exemption. This proposed rule would create two new exemptions: one for maintenance that does not require a haulout, and one for sale of a vessel. Like the existing haulout exemption, the new maintenance exemption would allow VMS units to temporarily be inoperable and would allow transmissions to be discontinued while work is being done on the vessel. However, the new maintenance exemption would not be limited to maintenance that is conducted while a vessel is hauled out.

The new exemption for sale of a vessel would be an extension of the current long-term departure exemption. This new exemption for sale of a vessel is proposed as a response to situations in which new owners purchase vessels and discontinue use of VMS units used by the previous owners. If the previous owners do not submit a Long-Term Departure exemption prior to the sale, the requirement for the VMS units to operate continues to exist on the sold vessels, even when the new owners do not participate in an activity requiring VMS.

Both of these proposed new exemptions would create flexibilities in the vessel owners' VMS requirements when vessels are not participating in an activity requiring VMS. If these new exemptions are not added to the regulations, fishermen would continue to be in violation of VMS requirements while their vessels undergo long-term maintenance or when prior owners of newly purchased vessels did not submit a long-term departure exemption prior to selling the vessel.

Classification

Pursuant to section 304(b)(1)(A) and 305(d) of the Magnuson-Stevens Act and Section 5 of the Northern Pacific Halibut Act of 1982 (Halibut Act, 16 U.S.C. 773c), the NMFS Assistant Administrator has determined that this proposed rule to implement Amendment 32 is consistent with the FMP, other provisions of the Magnuson-Stevens Act, and other applicable law, subject to further consideration after public comment. For rulemaking efficiency, NMFS is also proposing minor administrative regulatory changes. These changes include corrections to all references to “Cordell Bank,” and, in the description of the Cordell Bank GCA at § 660.70(q), clarifying that fishing is not permitted “within” its boundaries as opposed to “around” its boundaries; adding new regulatory definitions for different types of fishing bait, and adding new exemptions to the Vessel Monitoring System reporting requirements.

This proposed rule has been determined to be not significant for purposes of Executive Order 12866.

There are no relevant federal rules that may duplicate, overlap, or conflict with this action.

Certification Under the Regulatory Flexibility Act

The Chief Counsel for Regulation of the Department of Commerce certified to the Chief Counsel for Advocacy of the Small Business Administration that this proposed rule, if adopted, would not have a significant adverse economic impact on a substantial number of small entities.

For purposes of the Regulatory Flexibility Act (5 U.S.C. 601 et seq.) (RFA) only, NMFS has established a small business size standard for businesses, including their affiliates, whose primary industry is commercial fishing (see 50 CFR 200.2). A business primarily engaged in commercial fishing is classified as a small business if it is independently owned and operated, is not dominant in its field of operation (including its affiliates), and has combined annual receipts not in excess of $11 million for all its affiliated operations worldwide. This standard applies to all businesses classified under North American Industry Classification System (NAICS) code 11411 for commercial fishing, including all businesses classified as commercial finfish fishing (NAICS 114111), commercial shellfish fishing (NAICS 114112), and other commercial marine fishing (NAICS 114119) businesses (50 CFR 200.2; 13 CFR 121.201).

This proposed rule would directly affect groundfish vessels fishing in the directed Open Access, LEFG, IFQ gear switching, and California recreational fishery sectors. The proposed rule would also directly affect vessels participating in the non-tribal directed commercial Pacific halibut fishery. The table below shows the possible ranges and average numbers of vessels that participated in these fishery sectors from 2019-2022.

Table 1—Vessel Participation in Affected Groundfish Non-Trawl Sectors, 2019-2022
Fishery | Vessels (n): Range | Vessels (n): Average
Open Access | 573-681 | 614
Limited Entry Fixed Gear | 113-138 | 123
IFQ- Gear Switching | 9-16 | 12
Directed Halibut | 81-99 | 88
CA Recreational (CPFV) | 178-195 | 97

Of those participants, all open access, directed commercial halibut, and commercial passenger fishing vessels (CPFV) are considered small entities. In 2022, 197 of the 218 LEFG reported themselves as small entities. For those that reported themselves as large entities, there were some that owned multiple permits with one entity owning four permits, one owning three permits, and three owning two permits. Of the 9-16 vessels fishing in the IFQ gear switching sector from 2019-2022, these vessels used 20 trawl endorsed permits. In 2022, only one of those permit owners reported as a large entity. In addition, this proposed rule is not expected to place small entities at a significant competitive disadvantage to large entities.

The economic impact of the proposed action would be mostly positive for the affected small entities, as Amendment 32 and its proposed regulations would expand fishing opportunity (and therefore increase potential profitability) for all affected small entities through opening of closed areas and relaxing gear/catch restrictions in the remaining closed areas. The development of new closed areas (i.e., GEAs, YRCAs, and EFHCAs) restricts a smaller overall area in comparison to the area being opened for fishing. The development of BACs would have a neutral impact on small entities as this action is creating the management tool and is not implementing any BAC upon implementation of the final rule for this action. In addition, none of the administrative regulatory changes would have an economic impact on fishery participants.

For these reasons, NMFS believes that this proposed rule would not have a significant adverse economic impact on a substantial number of small entities. As a result, an initial regulatory flexibility analysis is not required and none has been prepared. Information Collection Requirements

This proposed rule contains a collection-of-information requirement subject to review and approval by the Office of Management and Budget (OMB) under the Paperwork Reduction Act (PRA). This rule would revise the existing requirements under OMB control # 0648-0573, “VMS and Declarations,” by adding and modifying declaration codes for the purpose of monitoring and enforcing the new provisions in the Non-Trawl RCA for limited fixed gear vessels and IFQ gear switchers. These new declaration codes are not anticipated to alter the number of respondents, anticipated responses, burden hours, or burden costs, as the affected vessels are already required to declare their fishing activities. The new declaration codes would allow NOAA's OLE to track those vessels that are declaring to fish inside the Non-Trawl RCA and identify what catch limits they should adhere to. Public reporting burden for submitting a declaration report is estimated to average 4 minutes per individual report, including the time for reviewing instructions, searching existing data sources, gathering and maintaining the data needed, and completing and reviewing the collection of information.

Public comment is sought regarding: whether this proposed collection of information is necessary for the proper performance of the functions of the agency, including whether the information shall have practical utility; the accuracy of the burden estimate; ways to enhance the quality, utility, and clarity of the information to be collected; and ways to minimize the burden of the collection of information, including through the use of automated collection techniques or other forms of information technology. Submit comments on these or any other aspects of the collection of information at www.reginfo.gov/public/do/PRAMain.

Notwithstanding any other provision of the law, no person is required to respond to, nor shall any person be subject to a penalty for failure to comply with, a collection of information subject to the requirements of the PRA, unless that collection of information displays a currently valid OMB Control Number.

List of Subjects

50 CFR Part 300

Fish, Fisheries, Fishing, Fishing vessels.

50 CFR Part 660

Fisheries, Fishing, Reporting and recordkeeping requirements.

Dated: August 22, 2023.
Samuel D. Rauch, III,
Deputy Assistant Administrator for Regulatory Programs, National Marine Fisheries Service.

For the reasons set out in the preamble, NMFS proposes to amend 50 CFR parts 300 and 660 as follows:

PART 300—INTERNATIONAL FISHERIES REGULATIONS

Subpart E—Pacific Halibut Fisheries

1. The Authority citation for part 300 continues to read as follows:

Authority: 16 U.S.C. 773-773k

2. Amend § 300.63 by revising paragraph (f) to read as follows:

§ 300.63 Catch sharing plan and domestic management measures in Area 2A.

* * * * *

(f) Area 2A Non-Treaty Commercial Fishery Closed Areas.

(1) Nontrawl Rockfish Conservation Area (RCA). Non-tribal commercial vessels operating in the directed commercial fishery for halibut in Area 2A are prohibited from fishing within a groundfish closed area known as the nontrawl RCA. Nontrawl RCA boundaries are defined by specific latitude and longitude coordinates that approximate depth contours. Between the U.S./Canada border and 46°16′ N lat., the shoreward boundary of the nontrawl RCA is the EEZ. Between 46°16′ N lat. and 40°10′ N lat., the shoreward boundary of the nontrawl RCA is a line approximating the 30-fm (55-m) depth contour, or the shoreward boundary of the EEZ, whichever is more seaward. Coordinates for the 30-fm (55-m) boundary are listed at 50 CFR 660.71(e). Between the U.S./Canada border and 46°16′ N lat., the seaward boundary of the nontrawl RCA is a line approximating the 100-fm (183-m) depth contour. Coordinates for the 100-fm (183-m) boundary are listed at 50 CFR 660.73(a). Between 46°16′ N lat. and 40°10′ N lat., the seaward boundary of the nontrawl RCA is a line approximating the 75-fm (137-m) depth contour. Coordinates for the 75-fm (137-m) boundary are listed at 50 CFR 660.72(j).

(2) North Coast Commercial Yelloweye Rockfish Conservation Area (YRCA). YRCAs are defined in the groundfish regulations at 50 CFR 660.70. Vessels that incidentally catch halibut while fishing in the sablefish primary fishery are required to follow area closures and gear restrictions defined in the groundfish regulations. It is unlawful to take and retain, possess (except for the purpose of continuous transit) or land halibut with limited entry longline gear within the North Coast Commercial Yelloweye Rockfish Conservation Area. All fishing gear for targeting halibut must be stowed while transiting through the North Coast Commercial YRCA when the closure is in effect.

(3) Salmon Troll YRCA. YRCAs are defined in the groundfish regulations at 50 CFR 660.70 and in the salmon regulations at 50 CFR 660.405(c). Non-tribal commercial vessels that incidentally catch halibut while fishing in the salmon troll fishery are prohibited from fishing within a closed area known as the Salmon Troll YRCA. It is unlawful for commercial salmon troll vessels to take and retain, possess (except for the purpose of continuous transit) or land halibut within the Salmon Troll YRCA. All fishing gear for targeting halibut must be stowed while transiting through the Salmon Troll YRCA when the closure is in effect.

(4) Tillamook YRCA. YRCAs are defined in the groundfish regulations at 50 CFR 660.70. It is unlawful for non-tribal commercial vessels operating in the directed halibut fishery in Area 2A to take and retain, possess (except for the purpose of continuous transit) or land halibut within the Tillamook YRCA. All fishing gear for targeting halibut must be stowed while transiting through the Tillamook YRCA when the closure is in effect. The closure is not in effect at this time.

(5) Newport YRCA. YRCAs are defined in the groundfish regulations at 50 CFR 660.70. It is unlawful for non-tribal commercial vessels operating in the directed halibut fishery in Area 2A to take and retain, or possess (except for the purpose of continuous transit) or land halibut within the Newport YRCA. All fishing gear for targeting halibut must be stowed while transiting through the Newport YRCA when the closure is in effect. The closure is not in effect at this time.

(6) Florence YRCA. YRCAs are defined in the groundfish regulations at 50 CFR 660.70. It is unlawful for non-tribal commercial vessels operating in the directed halibut fishery in Area 2A to take and retain, possess (except for the purpose of continuous transit) or land halibut within the Florence YRCA. All fishing gear for targeting halibut must be stowed while transiting through the Florence YRCA when the closure is in effect. The closure is not in effect at this time.

(7) Heceta Bank YRCA. YRCAs are defined in the groundfish regulations at 50 CFR 660.70. It is unlawful for non-tribal commercial vessels operating in the directed halibut fishery in Area 2A to take and retain, possess (except for the purpose of continuous transit) or land halibut within the Heceta Bank YRCA. All fishing gear for targeting halibut must be stowed while transiting through the Heceta Bank YRCA when the closure is in effect.

(8) Nehalem Bank East Essential Fish Habitat Conservation Area (EFHCA). EFHCAs are defined in the groundfish regulations at 50 CFR 660.70. It is unlawful for non-tribal commercial vessels operating in the directed halibut fishery in Area 2A to take and retain, possess (except for the purpose of continuous transit) or land halibut within the Nehalem Bank East EFHCA. All fishing gear for targeting halibut must be stowed while transiting through the Nehalem Bank East EFCHA.

(9) Garibaldi Reef North EFHCA. EFHCAs are defined in the groundfish regulations at 50 CFR 660.70. It is unlawful for non-tribal commercial vessels operating in the directed halibut fishery in Area 2A to take and retain, possess (except for the purpose of continuous transit) or land halibut within the Garibaldi Reef North EFHCA. All fishing gear for targeting halibut must be stowed while transiting through the Garibaldi Reef North EFCHA.

(10) Garibaldi Reef South EFHCA. EFHCAs are defined in the groundfish regulations at 50 CFR 660.70. It is unlawful for non-tribal commercial vessels operating in the directed halibut fishery in Area 2A to take and retain, possess (except for the purpose of continuous transit) or land halibut within the Garibaldi Reef South EFHCA. All fishing gear for targeting halibut must be stowed while transiting through the Garibaldi Reef South EFCHA.

(11) Arago Reef West EFHCA. EFHCAs are defined in the groundfish regulations at 50 CFR 660.70. It is unlawful for non-tribal commercial vessels operating in the directed halibut fishery in Area 2A take and retain, possess (except for the purpose of continuous transit) or land halibut within the Arago Reef EFHCA. All fishing gear for targeting halibut must be stowed while transiting through the Arago Reef West EFCHA.

(12) Bandon High Spot East EFHCA. EFHCAs are defined in the groundfish regulations at 50 CFR 660.70. It is unlawful for non-tribal commercial vessels operating in the directed halibut fishery in Area 2A to take and retain, possess (except for the purpose of continuous transit) or land halibut within the Bandon High Spot East EFHCA. All fishing gear for targeting halibut must be stowed while transiting through the Bandon High Spot East EFCHA.

PART 660—FISHERIES OFF WEST COAST STATES

3. The authority citation for part 660 continues to read as follows:

Authority: 16 U.S.C. 1801 et seq., 16 U.S.C. 773 et seq., and 16 U.S.C. 7001 et seq.

Subpart C [Amended]

4. In subpart C of part 660, revise all references to “Cordell Banks” to read “Cordell Bank”.

5. Amend § 660.11 by:

a. Adding in alphabetical order, the definitions for “Artificial lure” and “Bait”;

b. In the definition for “Conservation area(s)”:

i. Revising paragraph (1) introductory text and paragraph (1)(i);

ii. Redesignating paragraphs (1)(vi) and (1)(vii) as (1)(vii) and (1)(viii);

iii. Adding new paragraph (1)(vi); and

c. Adding in alphabetical order the definition for “Weighted gear”.

The additions and revisions read as follows:

§ 660.11 General definitions.

* * * * *

Artificial lure means any manufactured or man-made non-scented/non-flavored (regardless if scent or flavor is added in the manufacturing process or added afterwards) device complete with hooks, intended to attract fish. Artificial lures include, but are not limited to: spoons, spinners, artificial flies, and plugs. Artificial lures are made of metal, plastic, wood, or other non-edible materials.

Bait (natural or artificial) means any substance which attracts fish. Natural bait includes any natural biological substance used to attract or catch fish (e.g., herring/fish eggs). Artificial bait includes any manufactured device used to attract or catch fish.

* * * * *

Conservation area(s) * * *

(1) Groundfish Conservation Area or GCA means a conservation area created or modified and enforced to control catch of groundfish or protected species. Regulations at § 660.60(c)(3) describe the various purposes for which NMFS may implement certain types of GCAs through routine management measures. Regulations at § 660.70 further describe and define coordinates for certain GCAs, including: Yelloweye Rockfish Conservation Areas; Cowcod Conservation Areas; Groundfish Exclusion Areas; waters encircling the Farallon Islands; and waters encircling the Cordell Bank. GCAs also include depth-based closures bounded by lines approximating depth contours, including Bycatch Reduction Areas or BRAs, or bounded by depth contours and lines of latitude, including Block Area Closures, or BACs, and Rockfish Conservation Areas, or RCAs, which may be closed to fishing with particular gear types. BRA, BAC, and RCA boundaries may change seasonally according to conservation needs. Regulations at §§ 660.71 through 660.74, and § 660.76 define depth-based boundary lines with latitude/longitude coordinates that may be used to enact depth-based closures. Regulations in this section describe commonly used geographic coordinates that define lines of latitude. Fishing prohibitions associated with GCAs are in addition to those associated with other conservation areas.

(i) Block Area Closures or BACs are bounded on the north and south by commonly used geographic coordinates defined in this section, and on the east and west by the EEZ, and boundary lines approximating depth contours, defined with latitude and longitude coordinates at §§ 660.71 through 660.74 (10 fm (18 m) through 250 fm (457 m)), and § 660.76 (700 fm (1,280 m)). BACs may be implemented or modified as routine management measures, per the provisions of § 660.60(c). BACs may be implemented to control catch of groundfish by vessels taking and retaining groundfish in the EEZ seaward of Washington, Oregon and California for vessels using any gear type (trawl or non-trawl). BACs may be implemented to minimize bycatch of Chinook salmon and coho salmon by bottom trawl or midwater trawl vessels in the EEZ seaward of Oregon and California, and by midwater trawl vessels in the EEZ seaward of Washington, but shoreward of the boundary line approximating the 250 fm (457 m) depth contour as defined in § 660.74. BACs may vary in their geographic boundaries, duration, and the gears to which they apply. Their geographic boundaries, applicable gear type(s) and/or specific fishery program, and effective dates will be announced in the Federal Register. BACs may be implemented within tribal Usual and Accustomed fishing areas but may only apply to non-tribal vessels. BACs may have a specific termination date as described in the Federal Register, or may be in effect until modified. BACs that are in effect until modified by NMFS are set out in the trip limit tables of subparts D through F of this part.

* * * * *

(vi) Groundfish Exclusion Areas or GEAs are defined at § 660.70.

* * * * *

Weighted gear means any fishing gear that is combined with an object intended to make the bait, lure or hook sink (e.g. lead or steel sinkers).

6. Amend § 660.12 by:

a. Redesignating paragraph (a)(19) as (20);

b. Adding new paragraph (a)(19); and

c. Adding new paragraph (a)(21).

The additions read as follows:

§ 660.12 General groundfish prohibitions.

* * * * *

(a) * * *

(19) Fish for, take and retain, possess (except for the purpose of continuous transiting) or land any species of groundfish with groundfish non-trawl bottom contact gear (defined at § 660.11) in the following EFHCAs: Arago Reef West, Bandon High Spot East, Garibaldi Reef North, Garibaldi Reef South, and Nehalem Bank East.

* * * * *

(21) Fish for, take and retain, possess (except for the purpose of continuous transiting) or land any species of groundfish in a Block Area Closure enacted under subparts C through F of this part.

* * * * *

7. Amend § 660.13 by redesignating paragraphs (d)(4)(iv)(A)(30) through (37) as d)(4)(iv)(A)(34) through (41) and adding new paragraphs (d)(4)(iv)(A)(30) through (33) to read as follows:

§ 660.13 Recordkeeping and reporting.

* * * * *

(d) * * *

(4) * * *

(iv) * * *

(A) * * *

(30) Limited entry fixed gear non-bottom contact stationary vertical jig gear (allowed inside or outside the nontrawl RCA) (declaration code 12);

(31) Limited entry fixed gear non-bottom contact groundfish troll gear (allowed inside or outside the nontrawl RCA) (declaration code 13);

(32) Limited entry groundfish non-trawl, shorebased IFQ, non-bottom contact stationary vertical jig gear (allowed inside or outside the nontrawl RCA) (declaration code 14);

(33) Limited entry groundfish non-trawl, shorebased IFQ, non-bottom contact groundfish troll gear (allowed inside or outside the nontrawl RCA) (declaration code 15);

* * * * *

8. Amend § 660.14 by:

a. Revising paragraph (d)(4) introductory paragraph, and paragraphs (d)(4)(iii) through (vii); and

b. Adding paragraphs (d)(4)(viii) through (ix).

The revisions and additions read as follows:

§ 660.14 Vessel Monitoring System (VMS) Requirements.

* * * * *

(d) * * *

(4) VMS exemptions. A vessel that is required to operate and maintain the mobile transceiver unit continuously 24 hours a day throughout the fishing year may be exempted from this requirement if a valid exemption report, as described at paragraph (d)(4)(ix) of this section, is received by NMFS OLE and the vessel is in compliance with all conditions and requirements of the VMS exemption identified in this section and specified in the exemption report.

* * * * *

(iii) Permit exemption. If the limited entry permit had a change in vessel registration so that it is no longer registered to the vessel (for the purposes of this section, this includes permits placed into “unidentified” status), the vessel may be exempted from VMS requirements providing the vessel is not used in a fishery requiring VMS off the States of Washington, Oregon or California (0-200 nm offshore) for the remainder of the fishing year. If the vessel is used to fish in this area for any species of fish at any time during the remaining portion of the fishing year without being registered to a limited entry permit, the vessel is required to have and use VMS.

(iv) Long-term departure exemption. A vessel participating in the open access fishery that is required to have VMS under paragraph (b)(2) of this section may be exempted from VMS provisions after the end of the fishing year in which it used non-groundfish trawl gear, providing the vessel submits a completed exemption report signed by the vessel owner that includes a statement signed by the vessel owner indicating that the vessel will not use non-groundfish trawl gear to fish in the EEZ during the new fishing year/A vessel participating in the open access fishery that is required to have VMS under paragraph (b)(3) of this section also may be exempted from VMS provisions after the end of the fishing year in which it fished in the open access fishery, providing the vessel submits a completed exemption report signed by the vessel owner that includes a statement signed by the vessel owner indicating that the vessel will not be used to take and retain or possess groundfish in the EEZ or land groundfish taken in the EEZ during the new fishing year.

(v) Maintenance Exemption. When it is anticipated that a vessel will be without power or in a maintenance condition for more than 4 consecutive hours, preventing operation of the vessel's VMS unit, and if a valid exemption report has been received by NMFS OLE, electrical power to the VMS mobile transceiver unit may be removed and transmissions may be discontinued. Under this exemption, VMS transmissions can be discontinued from the time the vessel is in the maintenance condition until the time the maintenance is completed.

(vi) Sale of Vessel Exemption. When a new vessel owner purchases a vessel with VMS and does not intend to participate in an activity requiring VMS, but the previous vessel owner had not received a VMS exemption prior to the sale, VMS transmissions may be discontinued by the new vessel owner. Under this exemption, VMS transmissions can be discontinued indefinitely, upon purchase of the vessel, and no subsequent VMS transmissions will be required unless the new vessel owner engages in an activity requiring VMS.

(vii) Emergency exemption. Vessels required to have VMS under paragraph (b) of this section may be exempted from VMS provisions in emergency situations that are beyond the vessel owner's control, including but not limited to: Fire, flooding, or extensive physical damage to critical areas of the vessel. A vessel owner may apply for an emergency exemption from the VMS requirements specified in paragraph (b) of this section for his/her vessel by sending a written request to NMFS OLE specifying the following information: The reasons for seeking an exemption, including any supporting documents (e.g., repair invoices, photographs showing damage to the vessel, insurance claim forms, etc.); the time period for which the exemption is requested; and the location of the vessel while the exemption is in effect. NMFS OLE will issue a written determination granting or denying the emergency exemption request. A vessel will not be covered by the emergency exemption until NMFS OLE issues a determination granting the exemption. If an exemption is granted, the duration of the exemption will be specified in the NMFS OLE determination.

(viii) Submission of exemption reports. Signed long-term departure exemption reports must be submitted by fax or by emailing an electronic copy of the actual report. In the event of an emergency in which an emergency exemption request will be submitted, initial contact with NMFS OLE must be made by telephone, fax or email within 24 hours from when the incident occurred. Emergency exemption requests must be requested in writing within 72 hours from when the incident occurred. Maintenance exemption requests must include signed written documentation of the work being done and the name of the company doing the work, if applicable. Sale of Vessel exemption requests must include documentation of purchase of the vessel by the new owner. Other exemption reports must be submitted through the VMS or another method that is approved by NMFS OLE and announced in the Federal Register. Submission methods for exemption requests, except maintenance, sale of vessel, long-term departures and emergency exemption requests, may include email, facsimile, or telephone. NMFS OLE will provide, through appropriate media, instructions to the public on submitting exemption reports. Instructions and other information needed to make exemption reports may be mailed to the vessel owner's address of record. NMFS will bear no responsibility if a notification is sent to the address of record for the vessel owner and is not received because the vessel owner's actual address has changed without notification to NMFS. Owners of vessels required to use VMS who do not receive instructions by mail are responsible for contacting NMFS OLE during business hours at least 3 days before the exemption is required to be submitted to obtain information needed to make exemption reports. NMFS OLE must be contacted during business hours (Monday through Friday between 0800 and 1700 Pacific Time).

(ix) Valid exemption reports. For an exemption report to be valid, it must be received by NMFS at least 2 hours and not more than 24 hours before the exempted activities defined at paragraphs (d)(4)(i) through (vi) of this section occur. An exemption report is valid until NMFS receives a report canceling the exemption. An exemption cancellation must be received at least 2 hours before the vessel re-enters the EEZ following an outside areas exemption; at least 2 hours before the vessel is placed back in the water following a haul out exemption; at least 2 hours before the vessel operates following a maintenance exemption; at least 2 hours before the vessel resumes fishing for a species of fish or with gear requiring VMS in state or Federal waters off the States of Washington, Oregon, or California after it has received a permit exemption; or at least 2 hours before a vessel resumes fishing in the open access fishery after a long-term departure exemption. If a vessel is required to submit an activation report under paragraph (d)(2)(i) of this section before returning to fish, that report may substitute for the exemption cancellation. Initial contact must be made with NMFS OLE not more than 24 hours after the time that an emergency situation occurred in which VMS transmissions were disrupted and followed by a written emergency exemption request within 72 hours from when the incident occurred. If the emergency situation upon which an emergency exemption is based is resolved before the exemption expires, an exemption cancellation must be received by NMFS at least 2 hours before the vessel resumes fishing.

* * * * *

9. Amend § 660.60 by revising paragraphs (c)(3)(i)(C) and (h)(7)(ii)(A) to read as follows:

§ 660.60 Specifications and management measures.

* * * * *

(c) * * *

(3) * * *

(i) * * *

(C) Block Area Closures. BACs, as defined at § 660.11, may be closed or reopened, in the EEZ off Washington, Oregon and California, for vessels taking and retaining groundfish using any gear (trawl or non-trawl) in the EEZ consistent with the purposes described in this paragraph (c)(3)(i).

* * * * *

(h) * * *

(7) * * *

(ii) * * *

(A) Fishing in limited entry and open access fisheries with different trip limits. Open access trip limits apply to any fishing conducted with open access gear, even if the vessel has a valid limited entry permit with an endorsement for another type of gear. A vessel that fishes in both the open access and limited entry fisheries is not entitled to two separate trip limits for the same species. If a vessel has a limited entry permit registered to it at any time during the trip limit period and uses open access gear, but the open access limit is smaller than the limited entry limit, the open access limit may not be exceeded and counts toward the limited entry allocation as established under the biennial groundfish harvest specifications. If a vessel has a limited entry permit registered to it at any time during the trip limit period and uses open access gear, but the open access limit is larger than the limited entry limit, the smaller limited entry limit applies, even if taken entirely with open access gear. These provisions do not apply to:

(1) IFQ species (defined at § 660.140(c)) for vessels that are declared into the Shorebased IFQ Program (see § 660.13(d)(4)(iv)(A)) for valid Shorebased IFQ Program declarations).

(2) Vessels with a valid limited entry permit endorsed for longline and/or pot gear fishing inside the nontrawl RCA with stationary vertical jig gear or groundfish troll gear as defined at § 660.320(b)(6). Vessels fishing with one of these two approved hook-and-line gear configurations may fish up to the limited entry fixed gear trip limits in Table 2 (North) and Table 2 (South) of subpart E, either inside or outside the nontrawl RCA. This provision only applies on fishing trips where the vessel made the appropriate declaration (specified at § 660.13(d)(4)(iv)(A)).

* * * * *

10. Amend § 660.70 by revising paragraphs (g) through (q) and adding paragraphs (r) through (v) to read as follows:

§ 660.70 Groundfish Conservation areas.

* * * * *

(g) Tillamook YRCA. The Tillamook YRCA is an area off northern Oregon intended to protect yelloweye rockfish. The Tillamook YRCA is defined by straight lines connecting the following specific latitude and longitude coordinates in the order listed:

(1) 45°40.96′ N lat.; 124°27.52′ W long.;

(2) 45°40.96′ N lat.; 124°19.99′ W long.;

(3) 45°34.44′ N lat.; 124°14.48′ W long.;

(4) 45°31.93′ N lat.; 124°14.05′ W long.;

(5) 45°32.93′ N lat.; 124°22.54′ W long.;

(6) 45°36.95′ N lat.; 124°24.45′ W long.;

(7) 45°38.89′ N lat.; 124°25.92′ W long.; and connecting back to 45°40.96′ N lat.; 124°27.52′ W long.

(h) Newport YRCA. The Newport YRCA is an area off central Oregon intended to protect yelloweye rockfish. The Newport YRCA is defined by straight lines connecting the following specific latitude and longitude coordinates in the order listed:

(1) 44°46.00′ N lat.; 124°32.57′ W long.;

(2) 44°46.00′ N lat.; 124°32.00′ W long.;

(3) 44°42.00′ N lat.; 124°30.00′ W long.;

(4) 44°39.00′ N lat.; 124°30.00′ W long.;

(5) 44°39.00′ N lat.; 124°34.00′ W long.;

(6) 44°43.16′ N lat.; 124°34.00′ W long.;

(7) 44°44.54′ N lat.; 124°33.58′ W long.; and connecting back to 44°46.00′ N lat.; 124°32.57′ W long.

(i) Stonewall Bank Yelloweye Rockfish Conservation Area. The Stonewall Bank YRCA is an area off central Oregon, near Stonewall Bank, intended to protect yelloweye rockfish. The Stonewall Bank YRCA is defined by straight lines connecting the following specific latitude and longitude coordinates in the order listed:

(1) 44°37.46′ N lat.; 124°24.92′ W long.;

(2) 44°37.46′ N lat.; 124°23.63′ W long.;

(3) 44°28.71′ N lat.; 124°21.80′ W long.;

(4) 44°28.71′ N lat.; 124°24.10′ W long.;

(5) 44°31.42′ N lat.; 124°25.47′ W long.; and connecting back to 44°37.46′ N lat.; 124°24.92′ W long.

(j) Stonewall Bank Yelloweye Rockfish Conservation Area, Expansion 1. The Stonewall Bank Yelloweye Rockfish Conservation Area (YRCA) Expansion 1 is an area off central Oregon, near Stonewall Bank, intended to protect yelloweye rockfish. The Stonewall Bank YRCA Expansion 1 is defined by straight lines connecting the following specific latitude and longitude coordinates in the order listed:

(1) 44°41.76′ N lat.; 124°30.02′ W long.;

(2) 44°41.73′ N lat.; 124°21.60′ W long.;

(3) 44°25.25′ N lat.; 124°16.94′ W long.;

(4) 44°25.29′ N lat.; 124°30.14′ W long.;

(5) 44°41.76′ N lat.; 124°30.02′ W long.; and connecting back to 44°41.76′ N lat.; 124°30.02′ W long.

(k) Stonewall Bank Yelloweye Rockfish Conservation Area, Expansion 2. The Stonewall Bank Yelloweye Rockfish Conservation Area (YRCA) Expansion 2 is an area off central Oregon, near Stonewall Bank, intended to protect yelloweye rockfish. The Stonewall Bank YRCA Expansion 2 is defined by straight lines connecting the following specific latitude and longitude coordinates in the order listed:

(1) 44°38.54′ N lat.; 124°27.41′ W long.;

(2) 44°38.54′ N lat.; 124°23.86′ W long.;

(3) 44°27.13′ N lat.; 124°21.50′ W long.;

(4) 44°27.13′ N lat.; 124°26.89′ W long.;

(5) 44°31.30′ N lat.; 124°28.35′ W long.; and connecting back to 44°38.54′ N lat.; 124°27.41′ W long.

(l) Florence YRCA. The Florence YRCA is an area off central Oregon intended to protect yelloweye rockfish. The Florence YRCA is defined by straight lines connecting the following specific latitude and longitude coordinates in order listed:

(1) 44°30.04′ N lat.; 124°42.31′ W long.;

(2) 44°30.19′ N lat.; 124°40.46′ W long.;

(3) 44°25.00′ N lat.; 124°37.00′ W long.;

(4) 44°25.00′ N lat.; 124°45.00′ W long.;

(5) 44°26.71′ N lat.; 124°45.00′ W long.; and connecting back to 44°30.04′ N lat.; 124°42.31′ W long.

(m) Heceta Bank YRCA. The Heceta Bank YRCA is an area off central Oregon intended to protect yelloweye rockfish. The Heceta Bank YRCA is defined by straight lines connecting the following specific latitude and longitude coordinates in order listed:

(1) 44°16.28′ N lat., 124°47.86′ W long.;

(2) 44°15.38′ N lat., 124°49.86′ W long.;

(3) 44°14.49′ N lat., 124°51.82′ W long.;

(4) 44°14.01′ N lat., 124°52.88′ W long.;

(5) 44°13.47′ N lat., 124°54.08′ W long.;

(6) 44°12.72′ N lat., 124°54.07′ W long.;

(7) 44°11.53′ N lat., 124°54.06′ W long.;

(8) 44°08.72′ N lat., 124°54.02′ W long.;

(9) 44°06.68′ N lat., 124°54.00′ W long.;

(10) 44°05.34′ N lat., 124°53.10′ W long.;

(11) 44°02.88′ N lat., 124°53.96′ W long.;

(12) 44°02.18′ N lat., 124°54.29′ W long.;

(13) 44°00.14′ N lat., 124°55.25′ W long.;

(14) 43°58.36′ N lat., 124°55.42′ W long.;

(15) 43°57.68′ N lat., 124°55.48′ W long.;

(16) 43°56.66′ N lat., 124°55.45′ W long.;

(17) 43°56.65′ N lat., 124°55.49′ W long.;

(18) 43°56.64′ N lat., 124°56.53′ W long.;

(19) 43°56.74′ N lat., 124°56.74′ W long.;

(20) 43°59.18′ N lat., 124°56.94′ W long.;

(21) 44°00.45′ N lat., 124°56.35′ W long.;

(22) 44°02.34′ N lat., 124°55.49′ W long.;

(23) 44°04.81′ N lat., 124°55.65′ W long.;

(24) 44°06.45′ N lat., 124°55.78′ W long.;

(25) 44°08.47′ N lat., 124°55.93′ W long.;

(26) 44°09.85′ N lat., 124°56.04′ W long.;

(27) 44°11.34′ N lat., 124°56.16′ W long.;

(28) 44°12.92′ N lat., 124°56.28′ W long.;

(29) 44°14.06′ N lat., 124°55.10′ W long.;

(30) 44°15.32′ N lat., 124°53.79′ W long.;

(31) 44°16.90′ N lat., 124°52.16′ W long.;

(32) 44°16.96′ N lat., 124°52.11′ W long.;

(33) 44°16.96′ N lat., 124°51.95′ W long.;

(34) 44°17.02′ N lat., 124°48.02′ W long.;

(35) 44°17.02′ N lat., 124°47.47′ W long.; and connecting back to 44°16.28′ N lat., 124°47.86′ W long.

(n) Point St. George YRCA. The Point St. George YRCA is an area off the northern California coast, northwest of Point St. George, intended to protect yelloweye rockfish. The Point St. George YRCA is defined by straight lines connecting the following specific latitude and longitude coordinates in the order listed:

(1) 41°51.00′ N lat., 124°23.75′ W long.;

(2) 41°51.00′ N lat., 124°20.75′ W long.;

(3) 41°48.00′ N lat., 124°20.75′ W long.;

(4) 41°48.00′ N lat., 124°23.75′ W long.; and connecting back to 41°51.00′ N lat., 124°23.75′ W long.

(o) South Reef YRCA. The South Reef YRCA is an area off the northern California coast, southwest of Crescent City, intended to protect yelloweye rockfish. The South Reef YRCA is defined by straight lines connecting the following specific latitude and longitude coordinates in the order listed:

(1) 41°42.20′ N lat., 124°16.00′ W long.;

(2) 41°42.20′ N lat., 124°13.80′ W long.;

(3) 41°40.50′ N lat., 124°13.80′ W long.;

(4) 41°40.50′ N lat., 124°16.00′ W long.; and connecting back to 41°42.20′ N lat., 124°16.00′ W long.

(p) Reading Rock YRCA. The Reading Rock YRCA is an area off the northern California coast, between Crescent City and Eureka, intended to protect yelloweye rockfish. The Reading Rock YRCA is defined by straight lines connecting the following specific latitude and longitude coordinates in the order listed:

(1) 41°21.50′ N lat., 124°12.00′ W long.;

(2) 41°21.50′ N lat., 124°10.00′ W long.;

(3) 41°20.00′ N lat., 124°10.00′ W long.;

(4) 41°20.00′ N lat., 124°12.00′ W long.; and connecting back to 41°21.50′ N lat., 124°12.00′ W long.

(q) Point Delgada YRCAs. The Point Delgada YRCAs are two areas off the northern California coast, south of Point Delgada and Shelter Cove, intended to protect yelloweye rockfish. The Northern Point Delgada YRCA is defined by straight lines connecting the following specific latitude and longitude coordinates in the order listed:

(1) 39°59.00′ N lat., 124°05.00′ W long.;

(2) 39°59.00′ N lat., 124°03.00′ W long.;

(3) 39°57.00′ N lat., 124°03.00′ W long.;

(4) 39°57.00′ N lat., 124°05.00′ W long.; and connecting back to 39°59.00′ N lat., 124°05.00′ W long.

(r) Southern Point Delgada YRCA. The Southern Point Delgada YRCA is defined by straight lines connecting the following specific latitude and longitude coordinates in the order listed:

(1) 39°57.00′ N lat., 124°05.00′ W long.;

(2) 39°57.00′ N lat., 124°02.00′ W long.;

(3) 39°54.00′ N lat., 124°02.00′ W long.;

(4) 39°54.00′ N lat., 124°05.00′ W long.; and connecting back to 39°57.00′ N lat., 124°05.00′ W long.

(s) Cowcod Conservation Areas. The Cowcod Conservation Areas (CCAs) are two areas off the southern California coast intended to protect cowcod.

(1) Western CCA. The Western CCA is an area south of Point Conception defined by the straight lines connecting the following specific latitude and longitude coordinates in the order listed and connecting back to 33°50.00′ N lat., 119°30.00′ W long.:

(i) 33°50.00′ N lat., 119°30.00′ W long.;

(ii) 33°50.00′ N lat., 118°50.00′ W long.;

(iii) 32°20.00′ N lat., 118°50.00′ W long.;

(iv) 32°20.00′ N lat., 119°37.00′ W long.;

(v) 33°00.00′ N lat., 119°37.00′ W long.;

(vi) 33°00.00′ N lat., 119°53.00′ W long.;

(vii) 33°33.00′ N lat., 119°53.00′ W long.; and

(viii) 33°33.00′ N lat., 119°30.00′ W long.

(2) Transit corridor. The Western CCA transit corridor is bounded on the north by the latitude line at 33°00.50′ N lat., and bounded on the south by the latitude line at 32°59.50′ N lat.

(3) Eastern CCA. The Eastern CCA is an area west of San Diego defined by the straight lines connecting the following specific latitude and longitude coordinates in the order listed and connecting back to 32°42.00′ N lat., 118°02.00′ W long.:

(i) 32°42.00′ N lat., 118°02.00′ W long.;

(ii) 32°42.00′ N lat., 117°50.00′ W long.;

(iii) 32°36.70′ N lat., 117°50.00′ W long.;

(iv) 32°30.00′ N lat., 117°53.50′ W long.; and

(v) 32°30.00′ N lat., 118°02.00′ W long.

(t) Groundfish Exclusion Areas. The Groundfish Exclusion Areas (GEAs) are eight areas south of Point Conception intended to protect sensitive areas, including areas with coral and sea pens.

(1) Hidden Reef. The Hidden Reef GEA is defined by the straight lines connecting the following specific latitude and longitude coordinates in the order listed and connecting back to 33°46.14′ N lat., 119°10.45′ W long.:

(i) 33°46.14′ N lat., 119°10.45′ W long.;

(ii) 33°46.14′ N lat., 119°05.96′ W long.;

(iii) 33°41.40′ N lat., 119°05.96′ W long.; and

(iv) 33°41.40′ N lat., 119°10.45′ W long.

(2) West of Santa Barbara Island. The West of Santa Barbara Island GEA is defined by the straight lines connecting the following specific latitude and longitude coordinates in the order listed and connecting back to 33°33.64′ N lat., 119°18.54′ W long.:

(i) 33°33.64′ N lat., 119°18.54′ W long.;

(ii) 33°33.64′ N lat., 119°07.57′ W long.;

(iii) 33°27.90′ N lat., 119°07.57′ W long; and

(iv) 33°27.90′ N lat., 119°18.54′ W long.

(3) Potato Bank. The Potato Bank GEA is defined by the straight lines connecting the following specific latitude and longitude coordinates in the order listed and connecting back to 33°21.00′ N lat., 119°52.10′ W long.:

(i) 33°21.00′ N lat., 119°52.10′ W long.;

(ii) 33°21.00′ N lat., 119°45.67′ W long.;

(iii) 33°10.10′ N lat., 119°45.67′ W long.; and

(iv) 33°10.10′ N lat., 119°52.10′ W long.

(4) 107/118 Bank. The 107/118 Bank GEA is defined by the straight lines connecting the following specific latitude and longitude coordinates in the order listed and connecting back to 33°05.51′ N lat., 119°41.29′ W long.:

(i) 33°05.51′ N lat., 119°41.29′ W long.;

(ii) 33°08.64′ N lat., 119°36.71′ W long.;

(iii) 33°03.50′ N lat., 119°31.69′ W long.; and

(iv) 33°00.36′ N lat., 119°36.27′ W long.

(5) Cherry Bank. The Cherry Bank GEA is defined by the straight lines connecting the following specific latitude and longitude coordinates in the order listed and connecting back to 32°50.86′ N lat., 119°29.40′ W long.:

(i) 32°50.86′ N lat., 119°29.40′ W long.;

(ii) 32°56.96′ N lat., 119°19.82′ W long.;

(iii) 32°54.69′ N lat., 119°17.78′ W long.; and

(iv) 32°48.59′ N lat., 119°27.35′ W long.

(6) Seamount 109. The Seamount 109 GEA is defined by the straight lines connecting the following specific latitude and longitude coordinates in the order listed and connecting back to 32°43.75′ N lat., 119°37.00′ W long.:

(i) 32°43.75′ N lat., 119°37.00′ W long.;

(ii) 32°43.75′ N lat., 119°34.29′ W long.;

(iii) 32°31.95′ N lat., 119°26.94′ W long.;

(iv) 32°30.47′ N lat., 119°29.71′ W long.; and

(v) 32°39.54′ N lat., 119°37.00′ W long.

(7) 43-Fathom Spot. The 43-Fathom Spot GEA is defined by the straight lines connecting the following specific latitude and longitude coordinates in the order listed and connecting back to 32°42.00′ N lat., 118°00.05′ W long.:

(i) 32°42.00′ N lat., 118°00.05′ W long.;

(ii) 32°42.00′ N lat., 117°50.00′ W long.;

(iii) 32°36.70′ N lat., 117°50.00′ W long.;

(iv) 32°36.18′ N lat., 117°50.23′ W long.; and

(v) 32°36.18′ N lat., 118°00.05′ W long.

(8) Northeast Bank. The Northeast Bank GEA is defined by the straight lines connecting the following specific latitude and longitude coordinates in the order listed and connecting back to 32°27.39′ N lat., 119°37.00′ W long.:

(i) 32°27.39′ N lat., 119°37.00′ W long.;

(ii) 32°27.39′ N lat., 119°31.60′ W long.;

(iii) 32°19.91′ N lat., 119°31.60′ W long.; and

(iv) 32°19.91′ N lat., 119°37.00′ W long.

(u) Farallon Islands. The Farallon Islands, off San Francisco and San Mateo Counties, include Southeast Farallon Island, Middle Farallon Island, North Farallon Island and Noon Day Rock. Generally, the State of California prohibits fishing for groundfish between the shoreline and the 10-fm (18-m) depth contour around the Farallon Islands.

(v) Cordell Bank. Cordell Bank is located offshore of California's Marin County. Generally, fishing for groundfish is prohibited within Cordell Bank as defined by specific latitude and longitude coordinates. The Cordell Bank closed area is defined by straight lines connecting the following specific latitude and longitude coordinates in the order listed:

11. Amend § 660.72 by:

a. Redesignating paragraphs (j) through (m) as (r) through (u);

b. Redesignating paragraphs (f) through (i) as (j) through (m);

c. Adding new paragraphs (f) through (i);

d. Adding paragraphs (n) through (q);

e. Revising newly redesignated paragraphs (r)(139) through (142) and (186);

f. Adding new paragraphs (v) through (y).

The revisions and additions read as follows:

§ 660.72 Latitude/longitude coordinates defining the 50 fm (91 m) through 75 fm (137 m) depth contours.

* * * * *

(f) The 50 fm (91 m) depth contour around Santa Barbara Island off the state of California is defined by straight lines connecting all of the following points in the order stated:

(1) 33°31.77′ N lat., 119°3.41′ W long.;

(2) 33°29.66′ N lat., 119°5.86′ W long.;

(3) 33°26.94′ N lat., 119°2.95′ W long.;

(4) 33°27.08′ N lat., 119°0.51′ W long.;

(5) 33°28.82′ N lat., 118°59.42′ W long.;

(6) 33°30.67′ N lat., 119°0.88′ W long.; and

(7) 33°31.77′ N lat., 119°3.41′ W long.

(g) The 50 fm (91 m) depth contour around Tanner Bank off the state of California is defined by straight lines connecting all of the following points in the order stated:

(1) 32°45.53′ N lat., 119°13.28′ W long.;

(2) 32°43.98′ N lat., 119°15.05′ W long.;

(3) 32°38.45′ N lat., 119°4.92′ W long.;

(4) 32°41.44′ N lat., 119°3.71′ W long.;

(5) 32°45.02′ N lat., 119°11.08′ W long.; and

(6) 32°45.53′ N lat., 119°13.28′ W long.

(h) The 50 fm (91 m) depth contour around San Nicholas Island off the state of California is defined by straight lines connecting all of the following points in the order stated:

(1) 33°22.14′ N lat., 119°42.12′ W long.;

(2) 33°17.68′ N lat., 119°43.24′ W long.;

(3) 33°15.29′ N lat., 119°39.32′ W long.;

(4) 33°11.98′ N lat., 119°29.64′ W long.;

(5) 33°11.6′ N lat., 119°27.26′ W long.;

(6) 33°12.99′ N lat., 119°16.36′ W long.;

(7) 33°14.43′ N lat., 119°17.42′ W long.;

(8) 33°17.2′ N lat., 119°23.16′ W long.;

(9) 33°20.73′ N lat., 119°27.33′ W long.; and

(10) 33°22.14′ N lat., 119°42.12′ W long.

(i) The 50 fm (91 m) depth contour around Cortes Bank off the state of California is defined by straight lines connecting all of the following points in the order stated:

(1) 32°35.89′ N lat., 119°18.39′ W long.;

(2) 32°31.93′ N lat., 119°20.54′ W long.;

(3) 32°29.47′ N lat., 119°14.81′ W long.;

(4) 32°28.14′ N lat., 119°14.94′ W long.;

(5) 32°24.37′ N lat., 119°3.69′ W long.;

(6) 32°24.5′ N lat., 119°0.52′ W long.;

(7) 32°26.04′ N lat., 119°0.46′ W long.; and

(8) 32°35.89′ N lat., 119°18.39′ W long.

* * * * *

(n) The 60 fm (110 m) depth contour around Santa Barbara Island off the state of California is defined by straight lines connecting all of the following points in the order stated:

(1) 33°32.34′ N lat., 119°3.85′ W long.;

(2) 33°28.79′ N lat., 119°6.76′ W long.;

(3) 33°26.46′ N lat., 119°3.12′ W long.;

(4) 33°27.08′ N lat., 119°0.37′ W long.;

(5) 33°28.86′ N lat., 118°59.31′ W long.;

(6) 33°30.82′ N lat., 119°0.97′ W long.; and

(7) 33°32.34′ N lat., 119°3.85′ W long.

(o) The 60 fm (91 m) depth contour around Tanner Bank off the state of California is defined by straight lines connecting all of the following points in the order stated:

(1) 32°45.65′ N lat., 119°13.29′ W long.;

(2) 32°44.21′ N lat., 119°15.68′ W long.;

(3) 32°37.4′ N lat., 119°4.89′ W long.;

(4) 32°41.42′ N lat., 119°3.32′ W long.;

(5) 32°45.66′ N lat., 119°12.1′ W long.; and

(6) 32°45.65′ N lat., 119°13.29′ W long.

(p) The 60 fm (110 m) depth contour around San Nicholas Island off the state of California is defined by straight lines connecting all of the following points in the order stated:

(1) 33°26.41′ N lat., 119°39.84′ W long.;

(2) 33°22.94′ N lat., 119°47.34′ W long.;

(3) 33°16.39′ N lat., 119°42.64′ W long.;

(4) 33°11.86′ N lat., 119°29.61′ W long.;

(5) 33°11.52′ N lat., 119°27.25′ W long.;

(6) 33°12.97′ N lat., 119°16.3′ W long.;

(7) 33°14.48′ N lat., 119°17.42′ W long.;

(8) 33°17.23′ N lat., 119°23.14′ W long.;

(9) 33°21.21′ N lat., 119°27.84′ W long.;

(10) 33°22.65′ N lat., 119°34.31′ W long.; and

(11) 33°26.41′ N lat., 119°39.84′ W long.

(q) The 60 fm (110 m) depth contour around Cortes Bank off the state of California is defined by straight lines connecting all of the following points in the order stated:

(1) 32°36.79′ N lat., 119°18.81′ W long.;

(2) 32°31.94′ N lat., 119°20.75′ W long.;

(3) 32°29.5′ N lat., 119°15′ W long.;

(4) 32°27.95′ N lat., 119°15.12′ W long.;

(5) 32°24.03′ N lat., 119°3.72′ W long.;

(6) 32°24.46′ N lat., 118°59.56′ W long.;

(7) 32°25.42′ N lat., 118°59.42′ W long.;

(8) 32°27.41′ N lat., 119°1.99′ W long.; and

(9) 32°36.79′ N lat., 119°18.81′ W long.

(r) * * *

(139) 38°04.16′ N lat., 123°19.05′ W long.;

(140) 38°03.18′ N lat., 123°20.77′ W long.;

(141) 38°00.00′ N lat., 123°23.08′ W long.;

(142) 37°55.07′ N lat., 123°26.81′ W long.;

* * * * *

(186) 36°10.28′ N lat., 121°43.06′ W long.;

* * * * *

(v) The 75 fm (137 m) depth contour around Santa Barbara Island off the state of California is defined by straight lines connecting all of the following points in the order stated:

(1) 33°33.58′ N lat., 119°4.84′ W long.;

(2) 33°33.2′ N lat., 119°5.37′ W long.;

(3) 33°31.75′ N lat., 119°4.61′ W long.;

(4) 33°28.67′ N lat., 119°7.06′ W long.;

(5) 33°26.38′ N lat., 119°3.24′ W long.;

(6) 33°27.08′ N lat., 119°0.26′ W long.;

(7) 33°28.85′ N lat., 118°59.21′ W long.;

(8) 33°30.85′ N lat., 119°0.94′ W long.;

(9) 33°31.91′ N lat., 119°2.98′ W long.; and

(10) 33°33.58′ N lat., 119°4.84′ W long.

(w) The 75 fm (137 m) depth contour around Tanner Bank off the state of California is defined by straight lines connecting all of the following points in the order stated:

(1) 32°45.66′ N lat., 119°14.45′ W long.;

(2) 32°44.19′ N lat., 119°15.9′ W long.;

(3) 32°37.02′ N lat., 119°4.65′ W long.;

(4) 32°41.45′ N lat., 119°3.14′ W long.;

(5) 32°45.77′ N lat., 119°11.93′ W long.; and

(6) 32°45.66′ N lat., 119°14.45′ W long.

(x) The 75 fm (137 m) depth contour around San Nicholas Island off the state of California is defined by straight lines connecting all of the following points in the order stated:

(1) 33°30.94′ N lat., 119°45.06′ W long.;

(2) 33°28.59′ N lat., 119°52.02′ W long.;

(3) 33°16.05′ N lat., 119°43.86′ W long.;

(4) 33°15.2′ N lat., 119°39.36′ W long.;

(5) 33°11.71′ N lat., 119°29.48′ W long.;

(6) 33°11.39′ N lat., 119°26.58′ W long.;

(7) 33°12.96′ N lat., 119°16.23′ W long.;

(8) 33°14.52′ N lat., 119°17.42′ W long.;

(9) 33°17.24′ N lat., 119°23.09′ W long.;

(10) 33°21.24′ N lat., 119°27.83′ W long.;

(11) 33°22.71′ N lat., 119°33.54′ W long.; and

(12) 33°30.94′ N lat., 119°45.06′ W long.

(y) The 75 fm (137 m) depth contour around Cortes Bank off the state of California is defined by straight lines connecting all of the following points in the order stated:

(1) 32°37.38′ N lat., 119°19.45′ W long.;

(2) 32°31.9′ N lat., 119°20.9′ W long.;

(3) 32°29.52′ N lat.; 119°15.94′ W long.;

(4) 32°29.64′ N lat.; 119°15.4′ W long.;

(5) 32°29.24′ N lat.; 119°15.09′ W long.;

(6) 32°27.82′ N lat., 119°15.3′ W long.;

(7) 32°23.85′ N lat., 119°3.95′ W long.;

(8) 32°24.53′ N lat., 118°58.2′ W long.;

(9) 32°27.1′ N lat., 119°1.2′ W long.; and

(10) 32°37.38′ N lat., 119°19.45′ W long.

* * * * *

12. Amend § 660.73 by:

a. Redesignating paragraphs (i) through (m) as (p) through (t);

b. Redesignating paragraphs (e) through (h) as (i) through (l);

c. Adding new paragraphs (e) through (h);

d. Adding new paragraphs (m) through (o); and

e. Adding new paragraphs (u) through (y).

The revisions and additions read as follows:

§ 660.73 Latitude/longitude coordinates defining the 100 fm (183 m) through 150 fm (274 m) depth contours.

* * * * *

(e) The 100 fm (183 m) depth contour around Santa Barbara Island off the state of California is defined by straight lines connecting all of the following points in the order stated:

(1) 33°33.85′ N lat., 119°4.87′ W long.;

(2) 33°33.27′ N lat., 119°5.67′ W long.;

(3) 33°31.9′ N lat., 119°5.08′ W long.;

(4) 33°28.62′ N lat., 119°7.28′ W long.;

(5) 33°27.04′ N lat., 119°5.84′ W long.;

(6) 33°26.2′ N lat., 119°3.24′ W long.;

(7) 33°27.07′ N lat., 118°59.96′ W long.;

(8) 33°28.7′ N lat., 118°58.76′ W long.;

(9) 33°31′ N lat., 119°1.02′ W long.;

(10) 33°31.99′ N lat., 119°2.86′ W long.; and

(11) 33°33.85′ N lat., 119°4.87′ W long.

(f) The 100 fm (183 m) depth contour around Tanner Bank off the state of California is defined by straight lines connecting all of the following points in the order stated:

(1) 32°45.92′ N lat., 119°14.6′ W long.;

(2) 32°44.34′ N lat., 119°16.43′ W long.;

(3) 32°36.75′ N lat., 119°4.51′ W long.;

(4) 32°41.41′ N lat., 119°2.93′ W long.;

(5) 32°45.85′ N lat., 119°10.62′ W long.; and

(6) 32°45.92′ N lat., 119°14.6′ W long.

(g) The 100 fm (183 m) depth contour around San Nicholas Island off the state of California is defined by straight lines connecting all of the following points in the order stated:

(1) 33°31.37′ N lat., 119°44.84′ W long.;

(2) 33°28.82′ N lat., 119°52.19′ W long.;

(3) 33°25.43′ N lat., 119°51.27′ W long.;

(4) 33°18.01′ N lat., 119°47.18′ W long.;

(5) 33°15.8′ N lat., 119°43.64′ W long.;

(6) 33°14.22′ N lat., 119°37′ W long.;

(7) 33°11.56′ N lat., 119°29.58′ W long.;

(8) 33°11.28′ N lat., 119°26.54′ W long.;

(9) 33°12.94′ N lat., 119°15.86′ W long.;

(10) 33°14.48′ N lat., 119°16.97′ W long.;

(11) 33°17.33′ N lat., 119°22.93′ W long.;

(12) 33°21.28′ N lat., 119°27.66′ W long.;

(13) 33°23.38′ N lat., 119°33.29′ W long.; and

(14) 33°31.37′ N lat., 119°44.84′ W long.

(h) The 100 fm (183 m) depth contour around Cortes Bank off the state of California is defined by straight lines connecting all of the following points in the order stated:

(1) 32°37.79′ N lat., 119°19.68′ W long.;

(2) 32°36.19′ N lat., 119°21.84′ W long.;

(3) 32°33.16′ N lat., 119°21.76′ W long.;

(4) 32°30.92′ N lat., 119°20.46′ W long.;

(5) 32°29.25′ N lat., 119°15.93′ W long.;

(6) 32°29.44′ N lat., 119°15.44′ W long.;

(7) 32°29.23′ N lat., 119°15.23′ W long.;

(8) 32°27.48′ N lat., 119°15.56′ W long.;

(9) 32°23.19′ N lat., 119°3.23′ W long.;

(10) 32°22.94′ N lat., 118°57.58′ W long.;

(11) 32°24.47′ N lat., 118°57.61′ W long.;

(12) 32°27.3′ N lat., 119°1.06′ W long.; and

(13) 32°37.79′ N lat., 119°19.68′ W long.

* * * * *

(m) The 125 fm (229 m) depth contour around Santa Barbara Island off the state of California is defined by straight lines connecting all of the following points in the order stated:

(1) 33°33.96′ N lat., 119°4.88′ W long.;

(2) 33°33.28′ N lat., 119°5.88′ W long.;

(3) 33°30.98′ N lat., 119°6.32′ W long.;

(4) 33°28.52′ N lat., 119°7.7′ W long.;

(5) 33°26.93′ N lat., 119°5.94′ W long.;

(6) 33°25.96′ N lat., 119°3.34′ W long.;

(7) 33°27.01′ N lat., 118°59.73′ W long.;

(8) 33°28.68′ N lat., 118°58.43′ W long.;

(9) 33°31.2′ N lat., 119°1.09′ W long.;

(10) 33°32.04′ N lat., 119°2.77′ W long.; and

(11) 33°33.96′ N lat., 119°4.88′ W long.

(n) The 125 fm (229 m) depth contour around Tanner Bank and Cortes Bank off the state of California is defined by straight lines connecting all of the following points in the order stated:

(1) 32°46.01′ N lat., 119°14.63′ W long.;

(2) 32°44.35′ N lat., 119°16.58′ W long.;

(3) 32°40.85′ N lat., 119°11.61′ W long.;

(4) 32°38.93′ N lat., 119°11.9′ W long.;

(5) 32°41.32′ N lat., 119°18.11′ W long.;

(6) 32°36.16′ N lat., 119°22.16′ W long.;

(7) 32°33.09′ N lat., 119°21.89′ W long.;

(8) 32°30.73′ N lat., 119°20.43′ W long.;

(9) 32°28.94′ N lat., 119°15.4′ W long.;

(10) 32°27.46′ N lat., 119°15.62′ W long.;

(11) 32°24.58′ N lat., 119°9.83′ W long.;

(12) 32°22.97′ N lat., 119°3′ W long.;

(13) 32°22.03′ N lat., 118°56.26′ W long.;

(14) 32°24.63′ N lat., 118°57.54′ W long.;

(15) 32°34.72′ N lat., 119°10.24′ W long.;

(16) 32°37.93′ N lat., 119°7.88′ W long.;

(17) 32°36.55′ N lat., 119°4.42′ W long.;

(18) 32°41.5′ N lat., 119°2.65′ W long.;

(19) 32°45.98′ N lat., 119°10.71′ W long.; and

(20) 32°46.01′ N lat., 119°14.63′ W long.

(o) The 125 fm (229 m) depth contour around San Nicholas Island off the state of California is defined by straight lines connecting all of the following points in the order stated:

(1) 33°31.65′ N lat., 119°44.84′ W long.;

(2) 33°28.91′ N lat., 119°52.35′ W long.;

(3) 33°25.39′ N lat., 119°51.44′ W long.;

(4) 33°17.94′ N lat., 119°47.31′ W long.;

(5) 33°15.33′ N lat., 119°43.4′ W long.;

(6) 33°14.03′ N lat., 119°37.02′ W long.;

(7) 33°11.49′ N lat., 119°29.58′ W long.;

(8) 33°11.21′ N lat., 119°26.46′ W long.;

(9) 33°12.9′ N lat., 119°15.74′ W long.;

(10) 33°14.51′ N lat., 119°14.92′ W long.;

(11) 33°14.76′ N lat., 119°17.07′ W long.;

(12) 33°17.44′ N lat., 119°22.82′ W long.;

(13) 33°21.37′ N lat., 119°27.53′ W long.;

(14) 33°23.44′ N lat., 119°33.11′ W long.; and

(15) 33°31.65′ N lat., 119°44.84′ W long.

* * * * *

(u) The 150 fm (274 m) depth contour around Santa Barbara Island off the state of California is defined by straight lines connecting all of the following points in the order stated:

(1) 33°34.6′ N lat., 119°4.57′ W long.;

(2) 33°33.13′ N lat., 119°6.65′ W long.;

(3) 33°28.13′ N lat., 119°8.17′ W long.;

(4) 33°25.55′ N lat., 119°3.64′ W long.;

(5) 33°26.96′ N lat., 118°59.58′ W long.;

(6) 33°28.68′ N lat., 118°58.24′ W long.; and

(7) 33°34.6′ N lat., 119°4.57′ W long.;

(v) The 150 fm (274 m) depth contour around Tanner Bank and Cortes Bank off the state of California is defined by straight lines connecting all of the following points in the order stated:

(1) 32°46.12′ N lat., 119°14.73′ W long.;

(2) 32°44.37′ N lat., 119°16.82′ W long.;

(3) 32°41.02′ N lat., 119°12.01′ W long.;

(4) 32°39.28′ N lat., 119°12.18′ W long.;

(5) 32°41.46′ N lat., 119°18.28′ W long.;

(6) 32°36.17′ N lat., 119°22.31′ W long.;

(7) 32°32.97′ N lat., 119°22′ W long.;

(8) 32°30.57′ N lat., 119°20.54′ W long.;

(9) 32°28.94′ N lat., 119°15.53′ W long.;

(10) 32°27.45′ N lat., 119°15.79′ W long.;

(11) 32°24.86′ N lat., 119°12.93′ W long.;

(12) 32°21.43′ N lat., 118°55.1′ W long.;

(13) 32°24.67′ N lat., 118°57.37′ W long.;

(14) 32°34.34′ N lat., 119°9.28′ W long.;

(15) 32°37.39′ N lat., 119°7.54′ W long.;

(16) 32°36.38′ N lat., 119°4.32′ W long.;

(17) 32°41.59′ N lat., 119°2.46′ W long.;

(18) 32°46.07′ N lat., 119°10.68′ W long.; and

(19) 32°46.12′ N lat., 119°14.73′ W long.

(w) The 150 fm (274 m) depth contour around San Nicholas Island off the state of California is defined by straight lines connecting all of the following points in the order stated:

(1) 33°33.22′ N lat., 119°46.7′ W long.;

(2) 33°28.97′ N lat., 119°53.04′ W long.;

(3) 33°24.67′ N lat., 119°51.27′ W long.;

(4) 33°19.95′ N lat., 119°50.23′ W long.;

(5) 33°13.07′ N lat., 119°41.99′ W long.;

(6) 33°13.1′ N lat., 119°34.66′ W long.;

(7) 33°11.45′ N lat., 119°29.57′ W long.;

(8) 33°11.13′ N lat., 119°26.22′ W long.;

(9) 33°11.8′ N lat., 119°20.64′ W long.;

(10) 33°12.91′ N lat., 119°15.53′ W long.;

(11) 33°14.52′ N lat., 119°14.72′ W long.;

(12) 33°15.32′ N lat., 119°16.01′ W long.;

(13) 33°14.78′ N lat., 119°16.97′ W long.;

(14) 33°15.73′ N lat., 119°19.02′ W long.;

(15) 33°16.73′ N lat., 119°18.97′ W long.;

(16) 33°19.37′ N lat., 119°24.95′ W long.;

(17) 33°21.69′ N lat., 119°27.44′ W long.;

(18) 33°23.82′ N lat., 119°32.87′ W long.; and

(19) 33°33.22′ N lat., 119°46.7′ W long.

(x) The 150 fm (274 m) depth contour around Osborn Bank off the state of California is defined by straight lines connecting all of the following points in the order stated:

(1) 33°23.53′ N lat., 119°3.73′ W long.;

(2) 33°23.57′ N lat., 119°6.66′ W long.;

(3) 33°23.12′ N lat., 119°7.25′ W long.;

(4) 33°20.51′ N lat., 119°2.15′ W long.;

(5) 33°20.58′ N lat., 119°0.48′ W long.;

(6) 33°21.32′ N lat., 118°59.89′ W long.; and

(7) 33°23.53′ N lat., 119°3.73′ W long.

(y) The 150 fm (274 m) depth contour around the Eastern CCA area off the state of California is defined by straight lines connecting all of the following points in the order stated:

(1) 32°41.41′ N lat., 117°59.05′ W long.;

(2) 32°40.57′ N lat., 118°1.97′ W long.;

(3) 32°40.04′ N lat.,118°1.23′ W long.;

(4) 32°39.82′ N lat., 118°0.03′ W long.;

(5) 32°38.02′ N lat., 117°57.86′ W long.;

(6) 32°35.38′ N lat., 117°56.23′ W long.;

(7) 32°36.68′ N lat., 117°55.02′ W long.;

(8) 32°40.42′ N lat., 117°57.15′ W long.; and

(9) 32°41.41′ N lat., 117°59.05′ W long.

13. Amend § 660.78 by:

a. Redesignating paragraphs (p) through (r) as paragraphs (s) through (u);

b. Redesignating paragraph (o) as paragraph (q);

c. Redesignating paragraphs (f) through (n) as paragraphs (g) through (o);

d. Adding new paragraph (f);

e. Adding new paragraph (p); and

f. Adding new paragraph (r).

The revisions and additions read as follows:

§ 660.78 EFHCAs off the Coast of Oregon.

* * * * *

(f) Nehalem Bank East. The boundary of the Nehalem Bank East EFHCA is defined by straight lines connecting all of the following points in the order stated and connecting back to 45°47.95′ N lat., 124°31.70′ W long.:

(1) 45°47.95′ N lat., 124°31.70′ W long.;

(2) 45°52.28′ N lat., 124°38.46′ W long.;

(3) 45°56.45′ N lat., 124°38.00′ W long.;

(4) 45°58.33′ N lat., 124°38.75′ W long.;

(5) 46°00.83′ N lat., 124°36.78′ W long.;

(6) 45°59.94′ N lat., 124°34.63′ W long.;

(7) 45°58.90′ N lat., 124°33.47′ W long.;

(8) 45°54.27′ N lat., 124°30.73′ W long.;

(9) 45°53.62 N lat., 124°30.83′ W long.;

(10) 45°52.90′ N lat., 124°30.67′ W long.;

(11) 45°52.03 N lat., 124°30.60′ W long.;

(12) 45°51.75′ N lat., 124°30.85′ W long.; and

(13) 45°51.53′ N lat., 124°31.15′ W long.

* * * * *

(p) Arago Reef West. The boundary of the Arago Reef West EFHCA is defined by straight lines connecting all of the following points in the order stated and connecting back to 43°16.24′ N lat., 124°27.66′ W long.:

(1) 43°16.24′ N lat., 124°27.66′ W long.;

(2) 43°14.23′ N lat., 124°29.28′ W long.;

(3) 43°14.03′ N lat., 124°28.31′ W long.;

(4) 43°11.92′ N lat., 124°28.26′ W long.;

(5) 43°11.02′ N lat., 124°29.11′ W long.;

(6) 43°10.13′ N lat., 124°29.15′ W long.;

(7) 43°09.26′ N lat., 124°31.03′ W long.;

(8) 43°08.60′ N lat., 124°30.98′ W long.;

(9) 43°10.22′ N lat., 124°37.82′ W long.;

(10) 43°16.91′ N lat., 124°37.50′ W long.;

(11) 43°16.51′ N lat., 124°28.97′ W long.;

(12) 43°16.88′ N lat., 124°28.16′ W long.; and

(13) 43°16.24′ N lat., 124°27.66′ W long.

* * * * *

(r) Bandon High Spot East. The boundary of the Bandon High Spot East EFHCA is defined by straight lines connecting all of the following points in the order stated and connecting back to 42°57.18′ N lat., 124°46.01′ W long.:

(1) 42°57.18′ N lat., 124°46.01′ W long.;

(2) 42°56.10′ N lat., 124°47.48′ W long.;

(3) 42°56.66′ N lat., 124°48.79′ W long.;

(4) 42°55.02′ N lat., 124°50.45′ W long.;

(5) 42°55.70′ N lat., 124°52.79′ W long.;

(6) 43°03.91′ N lat., 124°50.81 W long.;

(7) 43°03.70′ N lat., 124°47.91′ W long.;

(8) 43°03.20′ N lat., 124°47.52′ W long.;

(9) 43°00.94′ N lat., 124°46.57′ W long.; and

(10) 42°57.18′ N lat., 124°46.01′ W long.

* * * * *

14. In § 660.79, revise paragraphs (yy) introductory text and (zz) introductory text to read as follows:

§ 660.79 EHFCAs off the Coast of California.

* * * * *

(yy) Potato Bank. The boundary of the Potato Bank EFHCA is defined by straight lines connecting all of the following points in the order stated and connecting back to 33°11.00′ N lat., 119°55.67′ W long.:

* * * * *

(zz) Cherry Bank. The Cherry Bank EFH Conservation Area is defined by straight lines connecting all of the following points in the order stated and connecting back to 32°59.00′ N lat., 119°32.05′ W long.:

* * * * *

Subpart D [Amended]

15. In subpart D of part 660, revise all references to “Cordell Banks” to read “Cordell Bank”.

Subpart E [Amended]

16. In subpart E of part 660, revise all references to “Cordell Banks” to read “Cordell Bank”.

17. In § 660.212, add paragraph

(c)(3) to read as follows:

§ 660.212 Fixed gear fishery—prohibitions.

* * * * *

(c) * * *

(3) Fish inside the nontrawl RCA with any gear type other than those specified at § 660.230(b)(6). In addition, a vessel may not carry more than one gear type as specified at § 660.230(b)(6) on board while declared to fish inside the nontrawl RCA (see § 660.13(d)(4)(iv)(A) for valid declarations for use inside the nontrawl RCA).

* * * * *

18. Amend § 660.230 by:

a. Revising paragraph (a);

b. Adding paragraph (b)(6);

c. Revising paragraphs (d)(5) through (13); and

d. Adding new paragraphs (d)(14) through (17).

The additions and revisions read as follows:

§ 660.230 Fixed gear fishery—management measures.

(a) General. Most species taken in limited entry fixed gear (longline and pot/trap) fisheries will be managed with cumulative trip limits (see trip limits in Tables 2 (North) and 2 (South) of this subpart), size limits (see § 660.60(h)(5)), seasons (see trip limits in Tables 2 (North) and 2 (South) of this subpart and sablefish primary season details in § 660.231), gear restrictions (see paragraph (b) of this section), and closed areas (see paragraph (d) of this section and §§ 660.70 through 660.79). Cowcod retention is prohibited in all fisheries, and groundfish vessels operating south of Point Conception must adhere to GEA restrictions (see paragraph (d)(17) of this section and § 660.70). Yelloweye rockfish retention is prohibited in the limited entry fixed gear fisheries. Regulations governing tier limits for the limited entry, fixed gear sablefish primary season north of 36° N lat. are found in § 660.231. Vessels not participating in the sablefish primary season are subject to daily or weekly sablefish limits in addition to cumulative limits for each cumulative limit period. Only one sablefish landing per week may be made in excess of the daily trip limit and, if the vessel chooses to make a landing in excess of that daily trip limit, then that is the only sablefish landing permitted for that week. The trip limit for black rockfish caught with hook-and-line gear also applies, see § 660.230(e). The trip limits in Table 2 (North) and Table 2 (South) of this subpart apply to vessels participating in the limited entry groundfish fixed gear fishery and may not be exceeded.

(b) * * *

(6) Gear for use in the Nontrawl RCA. Inside the nontrawl RCA, only legal non-bottom contact hook-and-line gear configurations may be used for target fishing for groundfish by vessels that participate in the limited entry fixed gear sector as defined at § 660.11. On a fishing trip where any fishing will occur inside the nontrawl RCA, only one type of legal non-bottom contact gear may be carried on board, and no other fishing gear of any type may be carried on board or stowed during that trip. The vessel may fish inside and outside the nontrawl RCA on the same fishing trip, provided a valid declaration report as required at § 660.13(d) has been filed with NMFS OLE. Legal non-bottom contact hook-and-line gear means stationary vertical jig gear not anchored to the bottom and groundfish troll gear, subject to the specifications in paragraphs (b)(6)(i) and (ii) of this section.

(i) Stationary vertical jig gear. The following requirements apply to stationary vertical jig gear:

(A) Must be a minimum of 30 feet between the bottom weight and the lowest fishing hook;

(B) No more than 4 vertical mainlines attached to or fished from the vessel (e.g., rod and reel) may be used in the water at one time with no more than 25 hooks on each mainline;

(C) No more than 100 hooks may be in the water at one time, with no more than 25 extra hooks on board the vessel.

(ii) Groundfish troll gear. The following requirements apply to groundfish troll gear:

(A) Must be a minimum of 50 feet between the bottom weight and the troll wire's connection to the horizontal mainline;

(B) No more than one mainline attached to or fished form the vessel may be used in the water at one time;

(C) No more than 500 hooks may be in the water at one time, with no more than 25 extra hooks on board the vessel;

(D) Hooks must be spaced apart by a visible maker (e.g., floats, line wraps, colored line splices), with no more than 25 hooks between each marker and no more than 20 markers on the mainline; and

(E) Natural bait or weighted hooks may not be used nor be on board the vessel. Artificial lures and bait are permitted.

* * * * *

(d) * * *

(5) Tillamook YRCA. The latitude and longitude coordinates that define the Tillamook YRCA boundaries are specified at § 660.70, subpart C. Fishing with limited entry fixed gear is prohibited within the Tillamook YRCA on dates when the closure is in effect. It is unlawful to take and retain, possess, or land groundfish taken with limited entry fixed gear within the Tillamook YRCA on dates when the closure is in effect. The closure is not in effect at this time. This closure may be implemented through inseason adjustment. Limited entry fixed gear vessels may transit through the Tillamook YRCA at any time, with or without groundfish on board.

(6) Newport YRCA. The latitude and longitude coordinates that define the Newport YRCA boundaries are specified at § 660.70, subpart C. Fishing with limited entry fixed gear is prohibited within the Newport YRCA on dates when the closure is in effect. It is unlawful to take and retain, possess, or land groundfish taken with limited entry fixed gear within the Newport YRCA on dates when the closure is in effect. The closure is not in effect at this time. This closure may be implemented through inseason adjustment. Limited entry fixed gear vessels may transit through the Newport YRCA at any time, with or without groundfish on board.

(7) Florence YRCA. The latitude and longitude coordinates that define the Florence YRCA boundaries are specified at § 660.70, subpart C. Fishing with limited entry fixed gear is prohibited within the Florence YRCA on dates when the closure is in effect. It is unlawful to take and retain, possess, or land groundfish taken with limited entry fixed gear within the Florence YRCA on dates when the closure is in effect. The closure is not in effect at this time. This closure may be implemented through inseason adjustment. Limited entry fixed gear vessels may transit through the Florence YRCA at any time, with or without groundfish on board.

(8) Heceta Bank YRCA. The latitude and longitude coordinates that define the Heceta Bank YRCA boundaries are specified at § 660.70, subpart C. Fishing with limited entry fixed gear is prohibited within the Heceta Bank YRCA on dates when the closure is in effect. It is unlawful to take and retain, possess, or land groundfish taken with limited entry fixed gear within the Heceta Bank YRCA on dates when the closure is in effect. The closure is currently in effect. This closure may be modified through inseason adjustment. Limited entry fixed gear vessels may transit through the Heceta Bank YRCA at any time, with or without groundfish on board.

(9) Point St. George YRCA. The latitude and longitude coordinates of the Point St. George YRCA boundaries are specified at § 660.70, subpart C. Fishing with limited entry fixed gear is prohibited within the Point St. George YRCA, on dates when the closure is in effect. It is unlawful to take and retain, possess, or land groundfish taken with limited entry fixed gear within the Point St. George YRCA, on dates when the closure is in effect. The closure is not in effect at this time. This closure may be imposed through inseason adjustment. Limited entry fixed gear vessels may transit through the Point St. George YRCA, at any time, with or without groundfish on board.

(10) South Reef YRCA. The latitude and longitude coordinates of the South Reef YRCA boundaries are specified at § 660.70, subpart C. Fishing with limited entry fixed gear is prohibited within the South Reef YRCA, on dates when the closure is in effect. It is unlawful to take and retain, possess, or land groundfish taken with limited entry fixed gear within the South Reef YRCA, on dates when the closure is in effect. The closure is not in effect at this time. This closure may be imposed through inseason adjustment. Limited entry fixed gear vessels may transit through the South Reef YRCA, at any time, with or without groundfish on board.

(11) Reading Rock YRCA. The latitude and longitude coordinates of the Reading Rock YRCA boundaries are specified at § 660.70, subpart C. Fishing with limited entry fixed gear is prohibited within the Reading Rock YRCA, on dates when the closure is in effect. It is unlawful to take and retain, possess, or land groundfish taken with limited entry fixed gear within the Reading Rock YRCA, on dates when the closure is in effect. The closure is not in effect at this time. This closure may be imposed through inseason adjustment. Limited entry fixed gear vessels may transit through the Reading Rock YRCA, at any time, with or without groundfish on board.

(12) Point Delgada (North) YRCA. The latitude and longitude coordinates of the Point Delgada (North) YRCA boundaries are specified at § 660.70, subpart C. Fishing with limited entry fixed gear is prohibited within the Point Delgada (North) YRCA, on dates when the closure is in effect. It is unlawful to take and retain, possess, or land groundfish taken with limited entry fixed gear within the Point Delgada (North) YRCA, on dates when the closure is in effect. The closure is not in effect at this time. This closure may be imposed through inseason adjustment. Limited entry fixed gear vessels may transit through the Point Delgada (North) YRCA, at any time, with or without groundfish on board.

(13) Point Delgada (South) YRCA. The latitude and longitude coordinates of the Point Delgada (South) YRCA boundaries are specified at § 660.70, subpart C. Fishing with limited entry fixed gear is prohibited within the Point Delgada (South) YRCA, on dates when the closure is in effect. It is unlawful to take and retain, possess, or land groundfish taken with limited entry fixed gear within the Point Delgada (South) YRCA, on dates when the closure is in effect. The closure is not in effect at this time. This closure may be imposed through inseason adjustment. Limited entry fixed gear vessels may transit through the Point Delgada (South) YRCA, at any time, with or without groundfish on board.

(14) Nontrawl Rockfish Conservation Area (RCA). The nontrawl RCA is defined at § 660.11 and with latitude and longitude coordinates, at §§ 660.71 through 660.74, where fishing for groundfish with nontrawl gear is prohibited. Boundaries for the nontrawl RCA throughout the year are provided in the header to Table 2 (North) and Table 2 (South) of this subpart and may be modified by NMFS inseason pursuant to § 660.60(c).

(i) It is unlawful to operate a vessel with limited entry nontrawl gear in the nontrawl RCA, except for the purpose of continuous transit, or when the use of limited entry nontrawl gear is authorized in this section. It is unlawful to take and retain, possess, or land groundfish taken with limited entry nontrawl gear within the nontrawl RCA, unless otherwise authorized in this section.

(ii) Limited entry nontrawl vessels may transit through the nontrawl RCA, with or without groundfish on board, provided all groundfish nontrawl gear is stowed either: Below deck; or if the gear cannot readily be moved, in a secured and covered manner, detached from all lines, so that it is rendered unusable for fishing.

(iii) The nontrawl RCA restrictions in this section apply to vessels registered to limited entry fixed gear permits fishing for species other than groundfish with nontrawl gear on trips where groundfish species are retained. Unless otherwise authorized in this section, a vessel may not retain any groundfish taken on a fishing trip for species other than groundfish that occurs within the nontrawl RCA. If a vessel fishes in a non-groundfish fishery in the nontrawl RCA, it may not participate in any fishing for groundfish on that trip that is prohibited within the nontrawl RCA. [For example, if a vessel fishes in the salmon troll fishery within the RCA, the vessel cannot on the same trip fish in the sablefish fishery outside of the RCA.]

(iv) It is lawful to fish within the nontrawl RCA with limited entry fixed gear using hook and line gear only when trip limits authorize such fishing, and provided a valid declaration report as required at § 660.13(d), subpart C, has been filed with NMFS OLE.

(v) It is lawful to fish within the nontrawl RCA under the limited entry fixed gear trip limits specified in Table 2 (North) and Table 2 (South) of this subpart only when using the non-bottom contact hook-and-line gear types described at § 660.230(b)(6), and provided a valid declaration report as required at § 660.13(d), subpart C, has been filed with NMFS OLE.

(15) Farallon Islands. Under California law, commercial fishing for all groundfish is prohibited between the shoreline and the 10 fm (18 m) depth contour around the Farallon Islands. An exception to this prohibition is that commercial fishing for “other flatfish” is allowed around the Farallon Islands using hook and line gear only. (See Table 2 (South) of this subpart.) For a definition of the Farallon Islands, see § 660.70, subpart C.

(16) Cordell Bank. Commercial fishing for groundfish is prohibited in waters of depths less than 100 fm (183 m) around Cordell Bank, as defined by specific latitude and longitude coordinates at § 660.70, subpart C. An exception to this prohibition is that commercial fishing for “other flatfish” is allowed around Cordell Bank using hook and line gear only.

(17) Groundfish exclusion areas (GEAs). The GEAs are closed areas in the Southern California Bight, defined by specific latitude and longitude coordinates (specified at § 660.70) where commercial and recreational fishing for groundfish is prohibited. It is unlawful to fish for, take and retain, possess (except for the purpose of continuous transit) or land groundfish within the GEAs. All fishing gear for targeting groundfish must be stowed while transiting through a GEA. If fishing for non-groundfish species within a GEA, then no groundfish may be on board the vessel.

* * * * *

19. In § 660 Subpart E, revise Table 2 North and Table 2 South to read as follows:

Section 660 Subpart E Table 2 North and Table 2 South

Subpart F [Amended]

20. In subpart F of part 660, revise all references to “Cordell Banks” to read “Cordell Bank”.

21. In § 660.312, revise paragraph (d)(7) and add paragraph (d)(8) to read as follows:

§ 660.31 2 Open access fishery—prohibitions.

* * * * *

(d) * * *

(7) Fish with bottom trawl gear (defined at § 660.11), other than demersal seine, unless otherwise specified in this section or § 660.330, within the EEZ in the following EFHCAs (defined at § 660.79): Brush Patch, Trinidad Canyon, Mad River Rough Patch, Samoa Deepwater, Eel River Canyon, Blunts Reef, Mendocino Ridge, Delgada Canyon, Tolo Bank, Navarro Canyon, Point Arena North, Point Arena South Biogenic Area, the Football, Gobbler's Knob, Point Reyes Reef, Cordell Bank/Biogenic Area, Rittenburg Bank, Farallon Islands/Fanny Shoal/Cochrane Bank, Farallon Escarpment, Half Moon Bay, Pescadero Reef, Pigeon Point Reef, Ascension Canyonhead, South of Davenport, Monterey Bay/Canyon, West of Sobranes Point, Point Sur Deep, Big Sur Coast/Port San Luis, La Cruz Canyon, West of Piedras Blancas State Marine Conservation Area, East San Lucia Bank, Point Conception, Hidden Reef/Kidney Bank, Catalina Island, Potato Bank, Cherry Bank, Cowcod EFHCA East, and Southern California Bight.

(8) Fish inside the nontrawl RCA with any gear type other than those specified at § 660.330(b)(3). In addition, a vessel may not carry more than one gear type as specified at § 660.330(b)(3) on board while declared to fish inside the nontrawl RCA (see §660.13(d)(4)(iv)(A) for valid declarations for use inside the nontrawl RCA).

22. Amend § 660.330 by:

a. Revising paragraph (a);

b. Revising paragraph (b)(3) introductory text;

c. Revising paragraph (b)(3)(i)(A) and (B);

d. Removing paragraph (b)(3)(i)(D);

e. Revising paragraph (b)(3)(ii)(B);

f. Revising paragraphs (d)(5) through (15); and

g. Adding new paragraphs (d)(16) through (19).

The revisions and additions read as follows:

§ 660.330 Open access fishery—management measures.

(a) General. Groundfish species taken in open access fisheries will be managed with cumulative trip limits (see trip limits in Tables 3 (North) and 3 (South) of this subpart), size limits (see § 660.60(h)(5)), seasons (see seasons in Tables 3 (North) and 3 (South) of this subpart), gear restrictions (see paragraph (b) of this section), and closed areas (see paragraph (d) of this section and §§ 660.70 through 660.79). Unless otherwise specified, a vessel operating in the open access fishery is subject to, and must not exceed any trip limit, frequency limit, and/or size limit for the open access fishery. Cowcod retention is prohibited in all fisheries, and groundfish vessels operating south of Point Conception must adhere to GEA restrictions (see paragraph (d)(15) of this section and § 660.70). Retention of yelloweye rockfish is prohibited in all open access fisheries. For information on the open access daily/weekly trip limit fishery for sablefish, see § 660.332 of this subpart and the trip limits in Tables 3 (North) and 3 (South) of this subpart. Open access vessels are subject to daily or weekly sablefish limits in addition to cumulative limits for each cumulative limit period. Only one sablefish landing per week may be made in excess of the daily trip limit and, if the vessel chooses to make a landing in excess of that daily trip limit, then that is the only sablefish landing permitted for that week. The trip limit for black rockfish caught with hook-and-line gear also applies (see paragraph (e) of this section). Open access vessels that fish with non-groundfish trawl gear or in the salmon troll fishery north of 40°10′ N lat. are subject the cumulative limits and closed areas (except the pink shrimp fishery which is not subject to RCA restrictions) listed in Tables 3 (North) and 3 (South) of this subpart.

(b) * * *

(3) Gear for use inside the Nontrawl RCA. Inside the nontrawl RCA, only legal non-bottom contact hook-and-line gear configurations may be used for target fishing for groundfish by vessels that participate in the open access sector as defined at § 660.11. On a fishing trip where any fishing will occur inside the nontrawl RCA, only one type of legal non-bottom contact gear may be carried on board, and no other fishing gear of any type may be carried on board or stowed during that trip. The vessel may fish inside and outside the nontrawl RCA on the same fishing trip, provided a valid declaration report as required at § 660.13(d) has been filed with NMFS OLE. Legal non-bottom contact hook-and-line gear means stationary vertical jig gear not anchored to the bottom and groundfish troll gear, subject to the specifications in paragraphs (b)(6)(i) and (ii) of this section.

(i) * * *

(A) Must be a minimum of 30 feet between the bottom weight and the lowest fishing hook;

(B) No more than 4 vertical mainlines attached to or fished from the vessel (e.g., rod & reel) may be used in the water at one time with no more than 25 hooks on each mainline;

* * * * *

(ii) * * *

(B) No more than one mainline attached to or fished from the vessel may be used in the water at one time;

* * * * *

(d) * * *

(5) Tillamook YRCA. The latitude and longitude coordinates of the Tillamook YRCA boundaries are specified at § 660.70, subpart C. Fishing with open access gear is prohibited within the Tillamook YRCA, on dates when the closure is in effect. It is unlawful to take and retain, possess, or land groundfish taken with open access gear within the Tillamook YRCA, on dates when the closure is in effect. The closure is not in effect at this time. This closure may be imposed through inseason adjustment. Open access vessels may transit through the Tillamook YRCA, at any time, with or without groundfish on board.

(6) Newport YRCA. The latitude and longitude coordinates of the Newport YRCA boundaries are specified at § 660.70, subpart C. Fishing with open access gear is prohibited within the Newport YRCA, on dates when the closure is in effect. It is unlawful to take and retain, possess, or land groundfish taken with open access gear within the Newport YRCA, on dates when the closure is in effect. The closure is not in effect at this time. This closure may be imposed through inseason adjustment. Open access vessels may transit through the Newport YRCA, at any time, with or without groundfish on board.

(7) Florence YRCA. The latitude and longitude coordinates of the Florence YRCA boundaries are specified at § 660.70, subpart C. Fishing with open access gear is prohibited within the Florence YRCA, on dates when the closure is in effect. It is unlawful to take and retain, possess, or land groundfish taken with open access gear within the Florence YRCA, on dates when the closure is in effect. The closure is not in effect at this time. This closure may be imposed through inseason adjustment. Open access vessels may transit through the Florence YRCA, at any time, with or without groundfish on board.

(8) Heceta Bank YRCA. The latitude and longitude coordinates of the Heceta Bank YRCA boundaries are specified at § 660.70, subpart C. Fishing with open access gear is prohibited within the Heceta Bank YRCA, on dates when the closure is in effect. It is unlawful to take and retain, possess, or land groundfish taken with open access gear within the Heceta Bank YRCA, on dates when the closure is in effect. The closure is in effect at this time. This closure may be imposed through inseason adjustment. Open access vessels may transit through the Heceta Bank YRCA, at any time, with or without groundfish on board.

(9) Point St. George YRCA. The latitude and longitude coordinates of the Point St. George YRCA boundaries are specified at § 660.70, subpart C. Fishing with open access gear is prohibited within the Point St. George YRCA, on dates when the closure is in effect. It is unlawful to take and retain, possess, or land groundfish taken with open access gear within the Point St. George YRCA, on dates when the closure is in effect. The closure is not in effect at this time. This closure may be imposed through inseason adjustment. Open access vessels may transit through the Point St. George YRCA, at any time, with or without groundfish on board.

(10) South Reef YRCA. The latitude and longitude coordinates of the South Reef YRCA boundaries are specified at § 660.70, subpart C. Fishing with open access gear is prohibited within the South Reef YRCA, on dates when the closure is in effect. It is unlawful to take and retain, possess, or land groundfish taken with open access gear within the South Reef YRCA, on dates when the closure is in effect. The closure is not in effect at this time. This closure may be imposed through inseason adjustment. Open access gear vessels may transit through the South Reef YRCA, at any time, with or without groundfish on board.

(11) Reading Rock YRCA. The latitude and longitude coordinates of the Reading Rock YRCA boundaries are specified at § 660.70, subpart C. Fishing with open access gear is prohibited within the Reading Rock YRCA, on dates when the closure is in effect. It is unlawful to take and retain, possess, or land groundfish taken with open access gear within the Reading Rock YRCA, on dates when the closure is in effect. The closure is not in effect at this time. This closure may be imposed through inseason adjustment. Open access gear vessels may transit through the Reading Rock YRCA, at any time, with or without groundfish on board.

(12) Point Delgada (North) YRCA. The latitude and longitude coordinates of the Point Delgada (North) YRCA boundaries are specified at § 660.70, subpart C. Fishing with open access gear is prohibited within the Point Delgada (North) YRCA, on dates when the closure is in effect. It is unlawful to take and retain, possess, or land groundfish taken with open access gear within the Point Delgada (North) YRCA, on dates when the closure is in effect. The closure is not in effect at this time. This closure may be imposed through inseason adjustment. Open access gear vessels may transit through the Point Delgada (North) YRCA, at any time, with or without groundfish on board.

(13) Point Delgada (South) YRCA. The latitude and longitude coordinates of the Point Delgada (South) YRCA boundaries are specified at § 660.70, subpart C. Fishing with open access gear is prohibited within the Point Delgada (South) YRCA, on dates when the closure is in effect. It is unlawful to take and retain, possess, or land groundfish taken with open access gear within the Point Delgada (South) YRCA, on dates when the closure is in effect. The closure is not in effect at this time. This closure may be imposed through inseason adjustment. Open access gear vessels may transit through the Point Delgada (South) YRCA, at any time, with or without groundfish on board.

(14) Salmon Troll Yelloweye Rockfish Conservation Area (YRCA). The latitude and longitude coordinates of the Salmon Troll YRCA boundaries are specified in the groundfish regulations at § 660.70, subpart C, and in the salmon regulations at § 660.405. Fishing with salmon troll gear is prohibited within the Salmon Troll YRCA. It is unlawful for commercial salmon troll vessels to take and retain, possess, or land fish taken with salmon troll gear within the Salmon Troll YRCA. Open access vessels may transit through the Salmon Troll YRCA with or without fish on board.

(15) Nontrawl rockfish conservation area for the open access fisheries. The nontrawl RCAs are closed areas, defined by specific latitude and longitude coordinates (specified at §§ 660.70 through 660.73, subpart C) designed to approximate specific depth contours, where fishing for groundfish with nontrawl gear is prohibited. Boundaries for the nontrawl RCA throughout the year are provided in the open access trip limit tables, Table 3 (North) and Table 3 (South) of this subpart and may be modified by NMFS inseason pursuant to § 660.60(c).

(i) It is unlawful to operate a vessel in the nontrawl RCA that has nontrawl gear onboard and is not registered to a limited entry permit on a trip in which the vessel is used to take and retain or possess groundfish in the EEZ, or land groundfish taken in the EEZ, except for the purpose of continuous transiting, or when the use of nontrawl gear is authorized in part 660.

(ii) On any trip on which a groundfish species is taken with nontrawl open access gear and retained, the open access nontrawl vessel may transit through the nontrawl RCA only if all groundfish nontrawl gear is stowed either: Below deck; or if the gear cannot readily be moved, in a secured and covered manner, detached from all lines, so that it is rendered unusable for fishing.

(iii) The nontrawl RCA restrictions in this section apply to vessels taking and retaining or possessing groundfish in the EEZ, or landing groundfish taken in the EEZ. Unless otherwise authorized by part 660, a vessel may not retain any groundfish taken on a fishing trip for species other than groundfish that occurs within the nontrawl RCA. If a vessel fishes in a non-groundfish fishery in the nontrawl RCA, it may not participate in any fishing for groundfish on that trip that is prohibited within the nontrawl RCA. [For example, if a vessel fishes in the salmon troll fishery within the RCA, the vessel cannot on the same trip fish in the sablefish fishery outside of the RCA.]

(iv) Fishing for “other flatfish” off California (between 42° N lat. south to the U.S./Mexico border) is allowed within the nontrawl RCA with hook and line gear only; and provided a valid declaration report as required at § 660.13(d), has been filed with NMFS OLE.

(v) Target fishing for groundfish off Oregon and California (between 46°16′ N lat. and the U.S./Mexico border) is allowed within the nontrawl RCA for vessels participating in the directed open access sector as defined at § 660.11, subject to the gear restrictions at § 660.330(b)(3)(i-ii), and provided a valid declaration report as required at § 660.13(d) has been filed with NMFS OLE.

(16) Non-groundfish trawl rockfish conservation areas for the open access non-groundfish trawl fisheries. The non-groundfish trawl RCAs are closed areas, defined by specific latitude and longitude coordinates (specified at §§ 660.70 through 660.74, subpart C) designed to approximate specific depth contours, where fishing for groundfish with nontrawl gear is prohibited. Boundaries for the nontrawl RCA throughout the year are provided in the open access trip limit tables, Table 3 (North) and Table 3 (South) of this subpart and may be modified by NMFS in season pursuant to § 660.60(c).

(i) It is unlawful to operate a vessel in the non-groundfish trawl RCA with non-groundfish trawl gear onboard, except for the purpose of continuous transiting, or when the use of trawl gear is authorized in part 660. It is unlawful to take and retain, possess, or land groundfish taken with non-groundfish trawl gear within the nontrawl RCA, unless otherwise authorized in part 660.

(ii) Non-groundfish trawl vessels may transit through the non-groundfish trawl RCA, with or without groundfish on board, provided all non-groundfish trawl gear is stowed either: Below deck; or if the gear cannot readily be moved, in a secured and covered manner, detached from all towing lines, so that it is rendered unusable for fishing; or remaining on deck uncovered if the trawl doors are hung from their stanchions and the net is disconnected from the doors.

(iii) The non-groundfish trawl RCA restrictions in this section apply to vessels taking and retaining or possessing groundfish in the EEZ, or landing groundfish taken in the EEZ. Unless otherwise authorized by Part 660, it is unlawful for a vessel to retain any groundfish taken on a fishing trip for species other than groundfish that occurs within the non-groundfish trawl RCA. If a vessel fishes in a non-groundfish fishery in the non-groundfish trawl RCA, it may not participate in any fishing on that trip that is prohibited within the non-groundfish trawl RCA. Nothing in these Federal regulations supersedes any state regulations that may prohibit trawling shoreward of the fishery management area (3-200 nm).

(iv) It is lawful to fish with non-groundfish trawl gear within the non-groundfish trawl RCA only under the following conditions:

(A) Pink shrimp trawling is permitted in the non-groundfish trawl RCA when a valid declaration report as required at § 660.12(d), subpart C, has been filed with NMFS OLE. Groundfish caught with pink shrimp trawl gear may be retained anywhere in the EEZ and are subject to the limits in Table 3 (North) and Table 3 (South) of this subpart.

(B) When the shoreward line of the trawl RCA is shallower than 100 fm (183 m), vessels using ridgeback prawn trawl gear south of 34°27.00′ N lat. may operate out to the 100 fm (183 m) boundary line specified at § 660.73, when a valid declaration report as required at § 660.13(d), has been filed with NMFS OLE. Groundfish caught with ridgeback prawn trawl gear are subject to the limits in Table 3 (North) and Table 3 (South) of this subpart.

(17) Farallon Islands. Under California law, commercial fishing for all groundfish is prohibited between the shoreline and the 10 fm (18 m) depth contour around the Farallon Islands. An exception to this prohibition is that commercial fishing for “other flatfish” is allowed around the Farallon Islands using hook and line gear only. (See Table 2 (South) of this subpart.) For a definition of the Farallon Islands, see § 660.70, subpart C.

(18) Cordell Bank. Commercial fishing for groundfish is prohibited in waters of depths less than 100-fm (183-m) around Cordell Bank, as defined by specific latitude and longitude coordinates at § 660.70, subpart C. An exception to this prohibition is that commercial fishing for “other flatfish” is allowed around Cordell Bank using hook and line gear only.

(19) Groundfish exclusion areas (GEAs). The GEAs are closed areas in the Southern California Bight, defined by specific latitude and longitude coordinates (specified at § 660.70) where commercial and recreational fishing for groundfish is prohibited. It is unlawful to fish for, take and retain, possess (except for the purpose of continuous transit) or land groundfish within the GEAs. All fishing gear for targeting groundfish must be stowed while transiting through a GEA. If fishing for non-groundfish species within a GEA, then no groundfish may be on board the vessel.

* * * * *

23. In § 660 Subpart E, revise Table 3 North and Table 3 South to read as follows:

Section 660 Subpart F Table 3 North and Table 3 South

Subpart G [Amended]

24. In subpart G of part 660, revise all references to “Cordell Banks” to read “Cordell Bank”.

25. Amend § 660.360 by revising paragraphs (c)(3)(i)(B) and (c)(3)(iv)(A) to read as follows:

§ 660.360 Recreational fishery—management measures.

* * * * *

(c) * * *

(3) * * *

(i) * * *

(B) Groundfish exclusion areas (GEAs). The GEAs are closed areas in the Southern California Bight, defined by specific latitude and longitude coordinates (specified at § 660.70) where commercial and recreational fishing for groundfish is prohibited. It is unlawful to fish for, take and retain, possess (except for the purpose of continuous transit) or land groundfish within the GEAs. Recreational fishing gear for targeting groundfish may not be deployed while transiting through a GEA. If fishing for non-groundfish species within a GEA, then no groundfish may be on board the vessel.

* * * * *

(iv) * * *

(A) Seasons. Recreational fishing for “Other Flatfish,” petrale sole, and starry flounder is open from January 1 through December 31. When recreational fishing for “Other Flatfish,” petrale sole, and starry flounder is open, it is permitted both outside and within the recreational RCAs described in paragraph (c)(3)(i) of this section.

* * * * *

[FR Doc. 2023-18411 Filed 8-29-23; 8:45 am]

BILLING CODE 3510-22-P